ENVIRONMENTAL PROTECTION AGENCY

40 CFR Part 52

[EPA-R04-OAR-2022-0512; FRL-10177-01-R4]

Air Plan Approval; North Carolina; Update to Materials Incorporated by Reference

AGENCY: Environmental Protection Agency (EPA).

ACTION: Final rule; notification of administrative change.

SUMMARY: The Environmental Protection Agency (EPA) is updating the materials that are incorporated by reference (IBR) into the North Carolina State Implementation Plan (SIP). The regulations affected by this update have been previously submitted by North Carolina and approved by EPA. In this final rule, EPA is also notifying the public of corrections and clarifying changes in the Code of Federal Regulations (CFR) tables that identify material incorporated by reference into the North Carolina SIP. This update affects the materials that are available for public inspection at the National Archives and Records Administration (NARA) and the EPA Regional Office.

DATES: This action is effective August 2, 2023.

ADDRESSES: The SIP materials whose incorporation by reference into 40 CFR part 52 is finalized through this action are available for inspection at the following locations: Environmental Protection Agency, Region 4, 61 Forsyth Street SW, Atlanta, GA 30303; and www.regulations.gov. To view the materials at the Region 4 Office, EPA requests that you email the contact listed in the FOR FURTHER INFORMATION CONTACT section to schedule your inspection. The Regional Office's official hours of business are Monday through Friday 8:30 a.m. to 4:30 p.m., excluding Federal holidays.

FOR FURTHER INFORMATION CONTACT: Sarah LaRocca, Air Planning and Implementation Branch, Air and Radiation Division, Region 4, U.S. Environmental Protection Agency, 61 Forsyth Street SW, Atlanta, Georgia 30303-8960. Ms. LaRocca can be reached via telephone at (404) 562-8994 and via electronic mail at larocca.sarah@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, and after notice and comment, they are incorporated into the federally-approved SIP and are identified in part 52—“Approval and Promulgation of Implementation Plans,” Title 40 of the Code of Federal Regulations (40 CFR part 52). The full text of the state regulation approved by EPA is not reproduced in its entirety in 40 CFR part 52 but is “incorporated by reference.” This means that EPA has approved a given state regulation or specified changes to the given regulation with a specific effective date. The public is referred to the location of the full text version should they want to know which measures are contained in a given SIP. The information provided allows EPA and the public to monitor the extent to which a state implements a SIP to attain and maintain the NAAQS and to take enforcement action for violations of the SIP.

The SIP is a living document which the state can revise as necessary to address the unique air pollution problems in the state. Therefore, EPA from time to time must take action on proposed revisions containing new or revised state regulations. A submission from a state can revise one or more rules in their entirety or portions of rules. The state indicates the changes in the submission (such as by using redline/strikethrough text) and EPA then takes action on the requested changes. EPA establishes a docket for its actions using a unique Docket Identification Number, which is listed in each action. These dockets and the complete submission are available for viewing on www.regulations.gov.

On May 22, 1997 (62 FR 27968), EPA revised the procedures for incorporating by reference, into the Code of Federal Regulations, materials approved by EPA into each SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally approved regulations and source-specific permits submitted by each state agency.

EPA generally updates these SIP Compilations on an annual basis. Under the revised procedures, EPA must periodically publish an informational document in the rules section of the Federal Register notifying the public that updates have been made to a SIP Compilation for a particular state. EPA began applying the 1997 revised procedures to North Carolina on May 20, 1999 (64 FR 27465), Forsyth County on August 9, 2002 (67 FR 51763), Mecklenburg County on October 22, 2002 (67 FR 64999), Western North Carolina on October 26, 2018 (83 FR 54032), and EPA-Approved North Carolina Source-Specific Requirements on November 24, 2020 (85 FR 74884), and is providing this notification in accordance with such procedures.

II. EPA Action

In this action, EPA is providing notification of an update to the materials incorporated by reference into the North Carolina SIP as of April 29, 2023, and identified in 40 CFR 52.1770(c) and (d). This update includes SIP materials submitted by North Carolina and approved by EPA since the last IBR update. See 83 FR 54032 (October 26, 2018). In addition, EPA is providing notification of the following corrections and clarifying changes to 40 CFR 52.1770(c) and (e):

Changes Applicable to Paragraph (c), Table (1), EPA Approved North Carolina Regulations

A. Correcting Table (c)'s title, from “(c) EPA approved regulations” to “EPA-Approved Regulations”

B. Correcting the header of Paragraph (c), Table (1) from “EPA Approved North Carolina Regulations” to “EPA-Approved North Carolina Regulations”

C. Under the “State citation” column, changing “Section” to “Rule” before all rules in the table

D. Under “EPA approval date,” correcting a Federal Register citation to reflect the beginning page of the preamble as opposed to that of the regulatory text

E. Changing the title “Subchapter 2D Air Pollution Control Requirements” to “Subchapter 02D Air Pollution Control Requirements”

F. In “Subchapter 02D Air Pollution Control Requirements,” under “Section .0500 Emission Control Standards” adding the explanation “Except for the annual average opacity limits and except as the rule applies to Carolina Power & Light's Asheville, Lee, Sutton, and Weatherspoon facilities.” to Rule .0536

G. In “Subchapter 02D Air Pollution Control Requirements,” changing the title of Rule .0923, “Surface Coating of Large Appliances” to “Surface Coating of Large Appliance Parts”

H. In “Subchapter 02D Air Pollution Control Requirements,” changing the title of Rule .0925, “Petroleum Liquid Storage” to “Petroleum Liquid Storage in Fixed Roof Tanks”

I. In “Subchapter 02D Air Pollution Control Requirements,” changing the title of Section .1000 from “Motor Vehicle Emission Control Standard” to “Motor Vehicle Emission Control Standards”

J. In “Subchapter 02D Air Pollution Control Requirements,” under “Section .2600 Source Testing,” correcting the state effective date for Rules .2601-.2608, .2612-.2615, and .2621, from “3/13/2008” to “6/1/2008”

K. Changing the title “Subchapter 2Q Air Quality Permits” to “Subchapter 02Q Air Quality Permits”

L. In “Subchapter 02Q Air Quality Permits,” under “Section .0800 Exclusionary Rules,” correcting the state effective date for Rule .0807 from “4/1/2002” to “4/1/2001”

M. In “Subchapter 02Q Air Quality Permits,” under “Section .0800 Exclusionary Rules,” adding “Rule .0810 Air Curtain Burners,” which was approved into the SIP on 7/18/2017 (82 FR 32767)

N. In “Subchapter 02Q Air Quality Permits,” under “Section .0800 Exclusionary Rules,” and “Section .0900 Permit Exemptions” correcting the approval dates and citations for Rules .0809, .0901, and .0902 from “9/27/2017, 82 FR 45473” to “9/29/2017, 82 FR 45473”

Changes Applicable to Paragraph (c), Table (2), EPA Approved Forsyth County Regulations

A. Correcting the header of paragraph (c), Table (2) from “EPA Approved Forsyth County Regulations” to “EPA-Approved Forsyth County Regulations”

B. Changing the “State citation” and “State effective date” column titles to “Citation” and “Effective date”, respectively

C. Under the “Citation” column, changing “Section” to “Rule” before all rules in the table

D. Correcting the header of Subchapter 3A from “Subchapter 3A Air Pollution Control Requirements” to “Subchapter 3A Air Pollution Control”

E. For all applicable rules in “Subchapter 3A Air Pollution Control,” “Subchapter 3B Relationship to State Code,” “Subchapter 3D Air Pollution Control Requirements,” and “Subchapter 3Q Air Quality Permits,” correcting the effective date and citation from “6/14/1990” to “12/19/1994” and correcting the citation from “5/2/1991, 56 FR 20140” to “2/1/1996, 61 FR 3586”

F. In “Subchapter 3A Air Pollution Control,” under “Section .0100 In General,” correcting the effective date for Rule .0106 from “1/17/1997” to “9/14/1998”

G. In “Subchapter 3D Air Pollution Control Requirements,” under “Section .0100 Definitions and References,” correcting the effective date of Rule .0101 from 11/6/1998” to “9/14/1998”

H. In “Subchapter 3D Air Pollution Control Requirements,” under Section .0400 Ambient Air Quality Standards,” changing the title of Rule .0409 from “PM10 Particulate Matter” to “Particulate Matter”, and correcting the effective date and EPA approval date from “6/14/1990; 5/2/1991, 56 FR 20140” to “12/19/1994; 2/1/1996, 61 FR 3586”

I. In “Subchapter 3D Air Pollution Control Requirements,” under “Section .0500 Emission Control Standards,” changing the title of the following Rules:

1. Rule .0509 “Particulates from MICA or FELDSPAR Processing Plants” to “Particulates from Mica or Feldspar Processing Plants”

2. Rule .0513 “Particulates From Portland Cement Plants” to “Control of Particulates From Portland Cement Plants”

3. Rule .0514 “Particulates From Ferrous Jobbing Foundries” to “Control of Particulates From Ferrous Jobbing Foundries”

J. In “Subchapter 3D Air Pollution Control Requirements,” under “Section .0500 Emission Control Standards,” adding the following rules:

1. Rule .0520 Control and Prohibition of Open Burning; effective 12/19/1994; EPA approval date 2/1/1996, 61 FR 3586

2. Rule .0523 Control of Conical Incinerators; effective 12/19/1994; EPA approval date 2/1/1996, 61 FR 3586

K. In “Subchapter 3D Air Pollution Control Requirements,” under “Section .0500 Emission Control Standards,” removing the following rules:

1. Rule .0522 Control and Prohibition of Odorous Emissions

2. Rule .0528 Total Reduced Sulfur from Kraft Pulp Mills

3. Rule .0529 Fluoride Emissions from Primary Aluminum Reduction Plants

4. Rule .0534 Fluoride Emissions from Phosphate Fertilizer Industry

5. Rule .0539 Odor Control of Feed Ingredient Manufacturing Plants

6. Rule .0540 Particulates from Fugitive Non-process Dust Emission Sources

7. Rule .0541 Control of Emissions from Abrasive Blasting

8. Rule .0542 Control of Particulate Emissions from Cotton Ginning Operations

L. In Subchapter 3D Air Pollution Control Requirements,” under “Section .0500 Emission Control Standards,” adding the explanation “Except for item (2)” for Rule .0527

M. In Subchapter 3D Air Pollution Control Requirements,” under “Section .0500 Emission Control Standards,” removing Rules .0524, .0537, and .0538

N. In Subchapter 3D Air Pollution Control Requirements,” under “Section .0500 Emission Control Standards,” correcting the effective date and EPA approval date for Rule .0530 from “10/10/1997” to “8/14/1995” and “12/31/1998, 63 FR 72190” to “5/23/1996, 61 FR 25789”, respectively, and adding an explanation to read “Except for paragraphs (a), (l), (o), and (s) approved on 12/31/1998 with an effective date of 7/28/1997”

O. In Subchapter 3D Air Pollution Control Requirements,” under “Section .0500 Emission Control Standards,” correcting the title of Rule .0533 from “Stack Heights” to “Stack Height”

P. In “Subchapter 3D Air Pollution Control Requirements,” under “Section .0500 Emission Control Standards,” and “Section .0900 Volatile Organic Compounds” correcting the effective date for Rules .0506, .0507, .0508, .0509, .0510, .0511, .0515, .0521, .0535, .0914, and .0953 from “11/6/1998” to “9/14/1998”

Q. In “Subchapter 3D Air Pollution Control Requirements,” under “Section .0500 Emission Control Standards,” and “Section .0900 Volatile Organic Compounds” correcting the effective date of Rules .0531 and .0909 from “11/6/1998” to 11/13/1995”

R. In “Subchapter 3D Air Pollution Control Requirements,” under “Section .0600 Monitoring: Recordkeeping: Reporting” adding the following rules:

1. Rule .0608 Program Schedule; effective 12/19/1994; EPA approval date 2/1/1996, 61 FR 3586

2. Rule .0610 Delegation; effective 12/19/1994; EPA approval date 2/1/1996, 61 FR 3586

S. In “Subchapter 3D Air Pollution Control Requirements,” under “Section .0600 Air Monitoring: Recordkeeping: Reporting” correcting the effective date and EPA approval date of Rule .0615 from “6/14/1990” and “5/2/1991, 56 FR 20140” to “5/24/1999” and “10/22/2002, 67 FR 64994”

T. In “Subchapter 3D Air Pollution Control Requirements,” under “Section .0900 Volatile Organic Compounds” correcting the effective date of Rule .0902 from “10/10/1997” to “7/28/1997” and adding the explanation “Paragraph (a) through (i) only”

U. In “Subchapter 3D Air Pollution Control Requirements,” under “Section .0900 Volatile Organic Compounds” adding the explanation “Except Paragraphs (a) through (c), (g), and (h) approved on 12/31/1998 with an effective date of 7/28/1997” to Rule .0909

V. In “Subchapter 3D Air Pollution Control Requirements,” under “Section .0900 Volatile Organic Compounds” adding Rule .0929 Petroleum Refinery Sources; effective 12/19/1994; with an EPA approval date of 2/1/1996, 61 FR 3586

W. In “Subchapter 3D Air Pollution Control Requirements,” under “Section .0900 Volatile Organic Compounds,” correcting the effective date and EPA approval date of Rule .0952 from “11/29/1995” to “11/13/1995” and from “5/23/1996, 61 FR 25789” to “2/17/2000, 65 FR 8053”, respectively

X. In “Subchapter 3D Air Pollution Control Requirements,” under “Section .0900 Volatile Organic Compounds,” correcting the effective date and EPA approval date of Rule .0954 from “10/10/1997” to “11/13/1995” and “5/23/1996, 61 FR 25789” to “2/17/2000, 65 FR 8053”, respectively, and adding the explanation “Except Paragraphs (a) and (f) approved on 12/31/1998 with an effective date of 7/28/1997”

Y. In “Subchapter 3D Air Pollution Control Requirements,” under “Section .0900 Volatile Organic Compounds,” correcting the effective date of Rules .0955, .0956, and .0957 from “11/29/1995” to “8/14/1995”

Z. In “Subchapter 3D Air Pollution Control Requirements,” under “Section .0900 Volatile Organic Compounds” removing Rule .0958

AA. In “Subchapter 3D Air Pollution Control Requirements” removing “Section .1200 Control of Emissions from Incinerators 111(a)” and Rules .1201 and .1202

BB. In “Subchapter 3D Air Pollution Control Requirements,” under “Section .1900 Open Burning” removing Rules .1901, .1902, and .1905

CC. In “Subchapter 3D Air Pollution Control Requirements,” under “Section .1900 Open Burning,” correcting the EPA approval date of Rule .1903 from “9/8/2002, 67 FR 5176” to “8/9/2002, 67 FR 51763”

DD. In “Subchapter 3D Air Pollution Control Requirements,” under “Section .1900 Open Burning” correcting the effective date and EPA approval date of Rule .1904 from “6/14/1990” to “10/25/1996” and “5/2/1991, 56 FR 20140” to “8/9/2002, 67 FR 51763”, respectively

EE. In “Subchapter 3D Air Pollution Control Requirements,” adding “Section .2000 Transportation Conformity” and adding “Rule .2003 Transportation Conformity Determination” with a 10/25/1999 effective date and EPA approval of 8/9/2002, 67 FR 51763

FF. In “Subchapter 3Q Air Quality Permits,” under “Section .0100 General Provisions,” adding the following Rules with an effective date of “12/19/1994” and EPA approval date of “2/1/1996, 61 FR 3586”:

1. Rule .0105 Copies of Referenced Documents

2. Rule .0106 Incorporation by Reference

2. Rule .0108 Delegation of Authority

3. Rule .0109 Compliance Schedule for Previously Exempted Activities

4. Rule .0110 Retention of Permit at Permit Facility

5. Rule .0111 Applicability Determinations

GG. In “Subchapter 3Q Air Quality Permits,” under “Section .0100 General Provisions,” correcting the effective date and EPA approval date of Rule .0103 from “5/24/1999; 67 FR 64994” to “10/25/1999; 67 FR 51763”

HH. In “Subchapter 3Q Air Quality Permits,” under “Section .0100 General Provisions,” correcting the effective and EPA approval date of Rule .0104 from “10/10/1997” to “12/19/1994” and “12/31/1998, 63 FR 72190” to “2/1/1996, 61 FR 3586”, respectively, and adding the explanation “Except paragraph (b) approved on 12/31/1998 with a state effective date of 7/28/1997”

II. In “Subchapter 3Q Air Quality Permits,” under “Section .0100 General Provisions,” “Section .0200 Permit Fees,” “Section .0300 Construction and Operation Permit,” and “Section .0800 Exclusionary Rules,” correcting the effective date of Rules .0101, .0207, .0301, .0302, .0312, .0805, .0806, and .0807 from “11/6/1998” to “9/14/1998”; and also correcting the EPA approval date for .0805, .0806, and .0807 from “2/17/2000, 65 FR 8093 to “2/17/2000, 65 FR 8053”

JJ. In “Subchapter 3Q Air Quality Permits,” under “Section .0300 Construction and Operation Permit,” and Section .0800 Exclusionary Rules,” correcting the effective date of Rules .0304, .0306, .0309, .0315 and .0808 from “7/1/1999” to “5/24/1999”

KK. In “Subchapter 3Q Air Quality Permits,” under “Section .0300 Construction and Operation Permit,” correcting the effective date and EPA approval date of Rule .0307 from “10/10/1997” to “12/19/1994” and “12/31/1998, 63 FR 72190” to “2/1/1996, 61 FR 3586” and adding the explanation “Except paragraph (i) approved on 12/31/1998 with a 7/28/1999 effective date”

LL. In “Subchapter 3Q Air Quality Permits,” adding “Section .0600 Transportation Facility Procedures,” in sequential order and adding the following Rules with an effective date of “12/14/1994” and EPA approval date of “2/1/1996, 61 FR 3586”:

1. Rule .0601, Purpose of Section and Requirement for a Permit

2. Rule .0602, Definitions

3. Rule .0603, Applications, and also adding the explanation “Except paragraph (e) approved on 12/31/1998 with an effective date of 7/28/97”

4. Rule .0604, Public Participation

5. Rule .0605, Final Action on Permit Application

6. Rule .0606, Termination, Modification and Revocation of Permits

7. Rule .0607, Application Processing Schedule

MM. In “Subchapter 3Q Air Quality Permits,” under “Section .0800 Exclusionary Rules,” correcting the effective date of Rule .0803 from “7/30/1999” to “5/24/1999”

NN. In “Subchapter 3Q Air Quality Permits,” under “Section .0300 Construction and Operation Permit,” correcting the effective date of Rule .0308 from “3/14/1995” to “12/19/1994”

OO. In “Subchapter 3Q Air Quality Permits,” under “Section .0800 Exclusionary Rules,” correcting the effective date and EPA approval date of Rules .0802 and .0804 from “6/14/1990; 5/2/1991, 56 FR 20140” to 11/13/1995; 2/17/2000, 65 FR 8053,” respectively

Changes Applicable to Paragraph (c), Table (3), EPA Approved Mecklenburg County Regulations

A. Correcting the header of paragraph (c), Table (3) from “EPA Approved Mecklenburg County Regulations” to “EPA-Approved Mecklenburg County Regulations”

B. Changing the “State citation” and “State effective date” column titles to “Citation” and “Effective date”, respectively

C. Under the “County citation” column, changing “Section” to “Rule” before all rules in the table

D. For all applicable rules in “Article 1.0000 Permitting Provisions for Air Pollution Sources, Rules and Operating Regulations for Acid Rain Sources, Title V and Toxic Air Pollutants,” and “Article 2.0000 Air Pollution Control Regulations and Procedures,” correcting the effective date from “6/14/1990” to “4/3/1989”

E. In “Article 1.0000 Permitting Provisions for Air Pollution Sources, Rules and Operating Regulations for Acid Rain Sources, Title V and Toxic Air Pollutants,” under “Section 1.5200 Air Quality Permits” changing the title of Rule 1.5235 from “Expedited Application Processing Schedule” to “Delegation of Authority”

F. In “Article 2.0000 Air Pollution Control Regulations and Procedures,” under “Section 2.0100 Definitions and References” changing the title of Rule 2.0104 from “Incorporation by Reference” to “Adoption by Reference Updates”

G. In “Article 2.0000 Air Pollution Control Regulations and Procedures,” under “Section 2.0400 Ambient Air Quality Standards” changing the title of Rule 2.0409 from “PM10 Particulate Matter” to “Particulate Matter”

H. In “Article 2.0000 Air Pollution Control Regulations and Procedures,” under “Section 2.0500 Emission Control Standards,” adding the explanation “Except for item (2)” to Rule 2.0517

I. In “Article 2.0000 Air Pollution Control Regulations and Procedures,” under “Section 2.0500 Emission Control Standards,” removing Rules 2.0527, 2.0538, and 2.0539

J. In “Article 2.0000 Air Pollution Control Regulations and Procedures,” under “Section 2.0500 Emission Control Standards,” changing the titles of the following Rules:

1. Rule 2.0506 from “Particulates from Hot Mix Asphalt Plants” to “Control of Particulates from Hot Mix Asphalt Plants”

2. Rule 2.0508 from “Particulates from Pulp and Paper Mills” to “Control of Particulates from Pulp and Paper Mills”

3. Rule 2.0509 from “Particulates from MICA or FELDSPAR Processing Plants” to “Particulates from Mica or Feldspar Processing Plants”

4. Rule 2.0510 from “Particulates from Sand, Gravel, or Crushed Stone Operations” to “Particulates: Sand: Gravel: Crushed Stone Operations”

5. Rule 2.0511 from “Particulates from Lightweight Aggregate Processes” to “Particulates: SO(2) From Lightweight Aggregate Processes”

6. Rule 2.0513 from “Particulates from Portland Cement Plants” to “Control of Particulates From Portland Cement Plants”

7. Rule 2.0514 from “Particulates from Ferrous Jobbing Foundries” to “Control of Particulates From Ferrous Jobbing Foundries”

8. Rule 2.0516 from “Sulfur Dioxide Emissions from Combustion Sources” to ” Sulfur Dioxide Emissions from Fuel Burning Installations”

9. Rule 2.0519 from “Control of Nitrogen Dioxide and Nitrogen Oxides Emissions” to “Control of Nitrogen Dioxide Emissions”

10. Rule 2.0535 from “Excess Emissions Reporting and Malfunction” to “Malfunctions, Start-Up and Shut-Down”

K. In “Article 2.0000 Air Pollution Control Regulations and Procedures” under “Section .0600 Monitoring: Recordkeeping: Reporting” removing Rules 2.0612, 2.0614, and 2.0615

L. In “Article 2.0000 Air Pollution Control Regulations and Procedures” under “Section .0600 Monitoring: Recordkeeping: Reporting” changing the title of Rule 2.0608 from “Other Large Coal or Residual Oil Burners” to “Program Schedule”

M. In “Article 2.0000 Air Pollution Control Regulations and Procedures” under “Section 2.0900 Volatile Organic Compounds” changing the title of the following Rules:

1. Rule 2.0907 from ““Equipment Installation Compliance Schedule” to “Equipment Installation Compliance Schedules”

2. Rule 2.0909 from “Compliance Schedules for Sources In New Nonattainment Areas” to “Low Solvent Content Coating Compliance Schedules”

N. In “Article 2.000 Air Pollution Control Regulations and Procedures,” under “Section 2.900 Volatile Organic Compounds,” adding the following Rules with effective dates of 4/3/1989 and approved into the SIP on 5/2/1991 (56 FR 20140):

1. Rule 2.0911 Expectation for Compliance Schedule

2. Rule 2.0914 Determination of VOC Emission Control Efficiency

Changes Applicable to Paragraph (c), Table (4), EPA Approved Western North Carolina Regulations

A. Replacing Table (4) in its entirety due to errors in the entries when the table was created in 83 FR 54032 (October 26, 2018)

Changes Applicable to Paragraph (e) EPA-Approved North Carolina Non-Regulatory Provisions

A. Correcting the header of paragraph (e) from “EPA Approved North Carolina Non-regulatory Provisions” to “EPA-Approved North Carolina Non-Regulatory Provisions” to match the table heading

B. Under “Federal Register Citation,” correcting a Federal Register citation to reflect the beginning page of the preamble as opposed to that of the regulatory text

C. Under the “State effective date” and “EPA approval date” removing the leading zero from the month and day, changing the 2-digit year to reflect a 4-digit year (for consistency), and changing all dates to a numeric m/d/yyyy format

D. Removing the period after all Federal Register citations (for consistency) under “Federal Register citation”

E. Under the “Explanation,” capitalizing the first word of each phrase or sentence (for consistency)

F. Under “North Carolina portion of bi-state Charlotte Area; 2008 8-Hour Ozone Base Year Emissions Inventory,” correcting the EPA approval date from “4/21/15 2015” to “4/21/2015”

G. Under “2008 8-hour ozone Maintenance Plan for the North Carolina portion of the bi-state Charlotte Area,” correcting the Federal Register citation from “80 FR 44869” to “80 FR 44873”

H. Under “110(a)(1) and (2) Infrastructure Requirements for the 2008 Lead NAAQS” and “110(a)(1) and (2) Infrastructure Requirements for the 2008 8-hour Ozone NAAQS,” adding the EPA approval date of “11/3/2015” and the Federal Register citation “80 FR 67646”

III. Good Cause Exemption

EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs, makes corrections and clarifying changes to the tables in the CFR, and makes ministerial changes to the prefatory heading to the tables in the CFR. Under section 553 of the APA, an agency may find good cause where procedures are “impracticable, unnecessary, or contrary to the public interest.” Public comment for this administrative action is “unnecessary” and “contrary to the public interest” since the codification (and corrections) only reflect existing law. Immediate notice of this action in the Federal Register benefits the public by providing the public notification of the updated North Carolina SIP Compilation and notification of corrections to the North Carolina “Identification of Plan” portion of the CFR. Further, pursuant to section 553(d)(3), making this action immediately effective benefits the public by immediately updating both the SIP Compilation and the CFR “Identification of plan” section (which includes table entry corrections).

IV. Incorporation by Reference

In this rule, EPA is finalizing regulatory text that includes incorporation by reference. In accordance with requirements of 1 CFR 51.5, EPA is finalizing the incorporation by reference of regulations promulgated by North Carolina, previously approved by EPA and federally effective before April 29, 2023, contained in “North Carolina, Volume 1, 40 CFR 52.1770(c)(1), EPA-Approved North Carolina Regulations”, “North Carolina, Volume 2, 40 CFR 52.1770(c)(2), EPA-Approved Forsyth County Regulations”, “North Carolina, Volume 3, 40 CFR 52.1770(c)(3), EPA-Approved Mecklenburg County Regulations”, “North Carolina, Volume 4, 40 CFR 52.1770(c)(4), EPA-Approved Western North Carolina Regulations,” and “North Carolina, Volume 5, 40 CFR 52.1770(d), EPA-Approved Source-Specific Regulations”. EPA has made, and will continue to make, these materials generally available through www.regulations.gov and at the EPA Region 4 Office (please contact the person identified in the FOR FURTHER INFORMATION CONTACT section of this preamble for more information).

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. Accordingly, this final rule and notification of administrative change does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the CAA.

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.” EPA did not perform an EJ analysis and did not consider EJ in this action. Consideration of EJ is not required as part of this action, and there is no information in the record inconsistent with the stated goal of E.O. 12898 of achieving EJ for people of color, low-income populations, and Indigenous peoples.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the North Carolina SIP Compilation previously afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 24, 2023.
Jeaneanne Gettle,
Acting Regional Administrator, Region 4.

For the reasons set out in the preamble, EPA amends 40 CFR part 52 as follows:

PART 52—APPROVAL AND PROMULGATION OF IMPLEMENTATION PLANS

1. The authority for citation for part 52 continues to read as follows:

Authority: 42 U.S.C. 7401 et seq.

Subpart II—North Carolina

2. Section 52.1770 paragraphs (b), (c), and (e) are revised to read as follows:

§ 52.1770 Identification of plan.

* * * * *

(b) Incorporation by reference.

(1) Material listed in paragraphs (c) and (d) of this section with an EPA approval date prior to April 29, 2023, was approved for incorporation by reference by the Director of the Federal Register in accordance with 5 U.S.C. 552(a) and 1 CFR part 51. Material is incorporated as it exists on the date of the approval and notification of any change in the material will be published in the Federal Register. Entries in paragraphs (c) and (d) of this section with EPA approval dates after April 29, 2023, will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1).

(3) Copies of the materials incorporated by reference may be inspected at the Region 4 EPA Office at 61 Forsyth Street SW, Atlanta, GA 30303. To obtain the material, please call (404) 562-9022. You may inspect the material with an EPA approval date prior to April 29, 2023, for North Carolina at the National Archives and Records Administration (NARA). For information on the availability of this material at NARA email fedreg.legal@nara.gov or go to http://www.archives.gov/federal-register/cfr/ibr-locations.html.

(c) EPA-Approved Regulations.

(1) EPA-Approved North Carolina Regulations
State citation | Title/subject | State effective date | EPA approval date | Explanation
Subchapter 02D Air Pollution Control Requirements
Section .0100 Definitions and References
Rule .0101 | Definitions | 1/1/2018 | 7/17/2020, 85 FR 43461
Rule .0103 | Copies of Referenced Federal Regulations | 1/1/2018 | 4/10/2019, 84 FR 14308
Rule .0104 | Incorporation by Reference | 1/1/2018 | 4/10/2019, 84 FR 14308
Rule .0105 | Mailing List | 1/1/2018 | 4/10/2019, 84 FR 14308
Section .0200 Air Pollution Sources
Rule .0201 | Classification of Air Pollution Sources | 1/1/2018 | 4/10/2019, 84 FR 14308
Rule .0202 | Registration of Air Pollution Sources | 1/1/2018 | 4/10/2019, 84 FR 14308
Section .0300 Air Pollution Emergencies
Rule .0301 | Purpose | 2/1/1976 | 6/3/1986, 51 FR 19834
Rule .0302 | Episode Criteria | 1/1/2018 | 4/10/2019, 84 FR 14308
Rule .0303 | Emission Reduction Plans | 1/1/2018 | 4/10/2019, 84 FR 14308
Rule .0304 | Preplanned Abatement Program | 1/1/2018 | 4/10/2019, 84 FR 14308
Rule .0305 | Emission Reduction Plan: Alert Level | 1/1/2018 | 4/10/2019, 84 FR 14308
Rule .0306 | Emission Reduction Plan: Warning Level | 1/1/2018 | 4/10/2019, 84 FR 14308
Rule .0307 | Emission Reduction Plan: Emergency Level | 1/1/2018 | 4/10/2019, 84 FR 14308
Section .0400 Ambient Air Quality Standards
Rule .0401 | Purpose | 1/1/2018 | 4/10/2019, 84 FR 14308
Rule .0402 | Sulfur Oxides | 1/1/2018 | 4/10/2019, 84 FR 14308
Rule .0403 | Total Suspended Particulates | 7/1/1988 | 1/16/1990, 55 FR 1419
Rule .0404 | Carbon Monoxide | 1/1/2018 | 4/10/2019, 84 FR 14308
Rule .0405 | Ozone | 1/1/2018 | 2/14/2019, 84 FR 3991
Rule .0407 | Nitrogen Dioxide | 1/1/2018 | 4/10/2019, 84 FR 14308
Rule .0408 | Lead | 1/1/2018 | 4/10/2019, 84 FR 14308
Rule .0409 | PM10 Particulate Matter | 1/1/2018 | 4/10/2019, 84 FR 14308
Rule .0410 | PM2.5 Particulate Matter | 1/1/2018 | 4/10/2019, 84 FR 14308
Section .0500 Emission Control Standards
Rule .0501 | Compliance with Emission Control Standards | 6/1/2008 | 4/9/2019, 84 FR 14019
Rule .0502 | Purpose | 3/1/1981 | 7/26/1982, 47 FR 32118
Rule .0503 | Particulates from Fuel Burning Indirect Heat Exchangers | 5/1/1999 | 10/22/2002, 67 FR 64989
Rule .0504 | Particulates from Wood Burning Indirect Heat Exchangers | 7/1/2002 | 12/27/2002, 67 FR 78980
Rule .0505 | Control of Particulates from Incinerators | 7/1/1987 | 2/29/1988, 53 FR 5974
Rule .0506 | Particulates from Hot Mix Asphalt Plants | 3/20/1998 | 11/10/1999, 64 FR 61213
Rule .0507 | Particulates from Chemical Fertilizer Manufacturing Plants | 4/1/2003 | 9/17/2003, 68 FR 54362
Rule .0508 | Particulates from Pulp and Paper Mills | 3/20/1998 | 11/10/1999, 64 FR 61213
Rule .0509 | Particulates from Mica or Feldspar Processing Plants | 4/1/2003 | 9/17/2003, 68 FR 54362
Rule .0510 | Particulates from Sand, Gravel, or Crushed Stone Operations | 3/20/1998 | 11/10/1999, 64 FR 61213
Rule .0511 | Particulates from Lightweight Aggregate | 3/20/1998 | 11/10/1999, 64 FR 61213
Rule .0512 | Particulates from Wood Products Finishing Plants | 11/1/1984 | 12/19/1986, 51 FR 45468
Rule .0513 | Particulates from Portland Cement Plants | 3/20/1998 | 11/10/1999, 64 FR 61213
Rule .0514 | Particulates from Ferrous Jobbing Foundries | 3/20/1998 | 11/10/1999, 64 FR 61213
Rule .0515 | Particulates from Miscellaneous Industrial Processes | 4/1/2003 | 9/17/2003, 68 FR 54362
Rule .0516 | Sulfur Dioxide Emissions from Combustion Sources | 11/1/2020 | 10/25/2022, 87 FR 64382
Rule .0517 | Emissions from Plants Producing Sulfuric Acid | 11/1/2020 | 10/25/2022, 87 FR 64382
Rule .0519 | Control of Nitrogen Dioxide and Nitrogen Oxides Emissions | 11/1/2020 | 10/25/2022, 87 FR 64382
Rule .0521 | Control of Visible Emissions | 1/1/2005 | 10/25/2005, 70 FR 61556 | Approving changes to Paragraphs (c) and (d) that reference new Paragraph (g). Also, approving Paragraph (g) excluding the following language: “excluding startups, shutdowns, maintenance periods when fuel is not being combusted, and malfunctions approved as such according to procedures approved under Rule .0535 of this Section.”
Rule .0522 | Control and Prohibition of Odorous Emissions | 2/1/1976 | 6/3/1986, 51 FR 19834
Rule .0523 | Control of Conical Incinerators | 1/1/1985 | 9/9/1987, 52 FR 33933
Rule .0527 | Emissions from Spodumene Ore Roasting | 11/1/1984 | 12/19/1986, 51 FR 45468
Rule .0530 | Prevention of Significant Deterioration | 10/1/2020 | 1/5/2023, 88 FR 773 | Except for the incorporation by reference of 40 CFR 51.166(b)(2)(iii)(a), which is instead the incorporation of the March 15, 1996, version of that section as approved into the SIP on October 15, 1999. Except for the incorporation by reference of 40 CFR 51.166(i)(2), which is instead the incorporation of the July 1, 2014, version of that section as approved into the SIP on September 11, 2018. Except for the incorporation by reference of 40 CFR 51.166(b)(2)(v), 51.166(b)(3)(iii)(d), 51.166(b)(53)-(56), 51.166(i)(11), and 51.166(y).
Rule .0531 | Sources in Nonattainment Areas | 9/1/2013 | 9/14/2016, 81 FR 63107 | The version of Section .0531 in the SIP does not incorporate by reference the provisions amended in the Ethanol Rule (published in the Federal Register on May 1, 2007) that excludes facilities that produce ethanol through a natural fermentation process from the definition of “chemical process plants” at § 52.21(b)(1)(i)(a) and (b)(1)(iii)(t).
Rule .0532 | Sources Contributing to an Ambient Violation | 7/1/1994 | 2/1/1996, 61 FR 3584
Rule .0533 | Stack Height | 11/1/2020 | 10/25/2022, 87 FR 64382
Rule .0535 | Excess Emissions Reporting and Malfunctions | 7/1/1996 | 8/1/1997, 62 FR 41277
Rule .0536 | Particulate Emissions from Electric Utility Boilers | 6/1/2008 | 4/9/2019, 84 FR 14019 | Except for the annual average opacity limits and except as the rule applies to Carolina Power & Light's Asheville, Lee, Sutton, and Weatherspoon facilities.
Rule .0540 | Particulates from Fugitive Dust Emission Sources | 8/1/2007 | 7/16/2019, 84 FR 33850
Rule .0542 | Control of Particulate Emissions from Cotton Ginning Operations | 11/1/2020 | 1/11/2022, 87 FR 1358
Rule .0543 | Best Available Retrofit Technology | 11/1/2020 | 6/21/2022, 87 FR 36769
Rule .0544 | Prevention of Significant Deterioration Requirements for Greenhouse Gases | 11/1/2020 | 1/5/2023, 88 FR 773 | Except for the Biomass Deferral Rule language contained in the second sentence of 40 CFR 51.166(b)(48)(ii)(a).
Section .0600 Monitoring: Recordkeeping: Reporting
Rule .0601 | Purpose and Scope | 11/1/2019 | 8/25/2021, 86 FR 47393
Rule .0602 | Definitions | 11/1/2019 | 8/25/2021, 86 FR 47393
Rule .0604 | Exceptions to Monitoring and Reporting Requirements | 11/1/2019 | 8/25/2021, 86 FR 47393
Rule .0605 | General Recordkeeping and Reporting Requirements | 11/1/2019 | 8/25/2021, 86 FR 47393
Rule .0606 | Sources Covered by Appendix P of 40 CFR Part 51 | 11/1/2019 | 8/25/2021, 86 FR 47393
Rule .0607 | Large Wood and Wood-Fossil Fuel Combination Units | 11/1/2019 | 10/7/2022, 87 FR 60895
Rule .0608 | Other Large Coal or Residual Oil Burners | 11/1/2019 | 10/7/2022, 87 FR 60895
Rule .0609 | Monitoring Condition in Permit | 4/12/1984 | 10/4/1985, 50 FR 41501
Rule .0610 | Federal Monitoring Requirements | 11/1/2019 | 10/7/2022, 87 FR 60895
Rule .0611 | Monitoring Emissions from Other Sources | 4/1/1999 | 8/8/2002, 67 FR 51461
Rule .0612 | Alternative Monitoring and Reporting Procedures | 11/1/2019 | 10/7/2022, 87 FR 60895
Rule .0613 | Quality Assurance Program | 11/1/2019 | 10/7/2022, 87 FR 60895
Rule .0614 | Compliance Assurance Monitoring | 4/1/1999 | 8/8/2002, 67 FR 51461
Section .0900 Volatile Organic Compounds
Rule .0901 | Definitions | 1/1/2009 | 5/9/2013, 78 FR 27065
Rule .0902 | Applicability | 5/1/2013 | 9/23/2013, 78 FR 58184 | This approval does not include the start-up shutdown language as described in Section II.A.a. of EPA's 3/13/2013 proposed rule (78 FR 15895).
Rule .0903 | Recordkeeping: Reporting: Monitoring | 5/1/2013 | 7/25/2013, 78 FR 44892
Rule .0905 | Petition for Alternative Controls | 11/8/1984 | 12/19/1986, 51 FR 45468
Rule .0906 | Circumvention | 11/8/1984 | 12/19/1986, 51 FR 45468
Rule .0908 | Equipment Modification Compliance Schedules | 11/8/1984 | 12/19/1986, 51 FR 45468
Rule .0909 | Compliance Schedules for Sources in Ozone Nonattainment and Maintenance Areas | 5/1/2013 | 9/23/2013, 78 FR 58186
Rule .0912 | General Provisions on Test Methods and Procedures | 3/13/2008 | 5/9/2013, 78 FR 27065
Rule .0918 | Can Coating | 7/1/1996 | 8/1/1997, 62 FR 41277
Rule .0919 | Coil Coating | 7/1/1996 | 8/1/1997, 62 FR 41277
Rule .0922 | Metal Furniture Coating | 9/1/2010 | 5/9/2013, 78 FR 27065
Rule .0923 | Surface Coating of Large Appliance Parts | 9/1/2010 | 5/9/2013, 78 FR 27065
Rule .0924 | Magnet Wire Coating | 7/1/1996 | 8/1/1997, 62 FR 41277
Rule .0925 | Petroleum Liquid Storage in Fixed Roof Tanks | 12/1/1989 | 6/23/1994, 59 FR 32362
Rule .0926 | Bulk Gasoline Plants | 7/1/1996 | 8/1/1997, 62 FR 41277
Rule .0927 | Bulk Gasoline Terminals | 6/1/2008 | 5/9/2013, 78 FR 27065
Rule .0928 | Gasoline Service Stations Stage I | 7/1/1996 | 8/1/1997, 62 FR 41277
Rule .0930 | Solvent Metal Cleaning | 6/1/2008 | 5/9/2013, 78 FR 27065
Rule .0931 | Cutback Asphalt | 12/1/1989 | 6/23/1994, 59 FR 32362
Rule .0932 | Gasoline Truck Tanks and Vapor Collection Systems | 11/7/2007 | 5/9/2013, 78 FR 27065
Rule .0933 | Petroleum Liquid Storage in External Floating Roof Tanks | 8/1/2004 | 5/9/2013, 78 FR 27065
Rule .0935 | Factory Surface Coating of Flat Wood Paneling | 9/1/2010 | 5/9/2013, 78 FR 27065
Rule .0937 | Manufacture of Pneumatic Rubber Tires | 7/1/1996 | 8/1/1997, 62 FR 41277
Rule .0943 | Synthetic Organic Chemical and Polymer Manufacturing | 11/7/2007 | 5/9/2013, 78 FR 27065
Rule .0944 | Manufacture of Polyethylene, Polypropylene, and Polystyrene | 3/14/1985 | 11/19/1986, 51 FR 41786
Rule .0945 | Petroleum Dry Cleaning | 11/7/2007 | 5/9/2013, 78 FR 27065
Rule .0947 | Manufacture of Synthesized Pharmaceutical Products | 7/1/1994 | 5/5/1995, 60 FR 22284
Rule .0948 | VOC Emissions from Transfer Operations | 7/1/2000 | 8/27/2001, 66 FR 34117
Rule .0949 | Storage of Miscellaneous Volatile Organic Compounds | 7/1/2000 | 8/27/2001, 66 FR 34117
Rule .0951 | RACT for Sources of Volatile Organic Compounds | 5/1/2013 | 7/25/2013, 78 FR 44890
Rule .0952 | Petitions for Alternative Controls for RACT | 9/18/2009 | 9/23/2013, 78 FR 58184
Rule .0955 | Thread Bonding Manufacturing | 4/1/1995 | 2/1/1996, 61 FR 3588
Rule .0956 | Glass Christmas Ornament Manufacturing | 4/1/1995 | 2/1/1996, 61 FR 3588
Rule .0957 | Commercial Bakeries | 4/1/1995 | 2/1/1996, 62 FR 3588
Rule .0958 | Work Practices for Sources of Volatile Organic Compounds | 7/1/2000 | 8/27/2001, 66 FR 34117
Rule .0961 | Offset Lithographic Printing and Letterpress Printing | 5/1/2013 | 7/25/2013, 78 FR 44890
Rule .0962 | Industrial Cleaning Solvents | 5/1/2013 | 7/25/2013, 78 FR 44890
Rule .0963 | Fiberglass Boat Manufacturing Materials | 9/1/2010 | 5/9/2013, 78 FR 27065
Rule .0964 | Miscellaneous Industrial Adhesives | 9/1/2010 | 5/9/2013, 78 FR 27065
Rule .0965 | Flexible Package Printing | 9/1/2010 | 5/9/2013, 78 FR 27065
Rule .0966 | Paper, Film and Foil Coatings | 9/1/2010 | 5/9/2013, 78 FR 27065
Rule .0967 | Miscellaneous Metal and Plastic Parts Coatings | 9/1/2010 | 5/9/2013, 78 FR 27065
Rule .0968 | Automobile and Light Duty Truck Assembly Coatings | 9/1/2010 | 5/9/2013, 78 FR 27065
Section .1000 Motor Vehicle Emission Control Standards
Rule .1001 | Purpose | 7/1/2018 | 9/11/2019, 84 FR 47889
Rule .1002 | Applicability | 7/1/2018 | 9/11/2019, 84 FR 47889
Rule .1003 | Definitions | 7/1/2018 | 9/11/2019, 84 FR 47889
Rule .1005 | On-Board Diagnostic Standards | 7/1/2018 | 9/11/2019, 84 FR 47889
Section .1400 Nitrogen Oxides
Rule .1401 | Definitions | 10/1/2020 | 1/13/2023, 88 FR 2243
Rule .1402 | Applicability | 10/1/2020 | 1/13/2023, 88 FR 2243
Rule .1403 | Compliance Schedules | 10/1/2020 | 1/13/2023, 88 FR 2243
Rule .1404 | Recordkeeping: Reporting: Monitoring | 10/1/2020 | 1/13/2023, 88 FR 2243
Rule .1407 | Boilers and Indirect Process Heaters | 10/1/2020 | 1/13/2023, 88 FR 2243
Rule .1408 | Stationary Combustion Turbines | 10/1/2020 | 1/13/2023, 88 FR 2243
Rule .1409 | Stationary Internal Combustion Engines | 10/1/2020 | 1/13/2023, 88 FR 2243
Rule .1410 | Emissions Averaging | 10/1/2020 | 1/13/2023, 88 FR 2243
Rule .1411 | Seasonal Fuel Switching | 10/1/2020 | 1/13/2023, 88 FR 2243
Rule .1412 | Petition for Alternative Limitations | 10/1/2020 | 1/13/2023, 88 FR 2243
Rule .1413 | Sources Not Otherwise Listed in This Section | 10/1/2020 | 1/13/2023, 88 FR 2243
Rule .1414 | Tune-Up Requirements | 10/1/2020 | 1/13/2023, 88 FR 2243
Rule .1415 | Test Methods and Procedures | 10/1/2020 | 1/13/2023, 88 FR 2243
Rule .1418 | New Electric Generating Units, Large Boilers, and Large I/C Engines | 10/1/2020 | 1/13/2023, 88 FR 2243
Rule .1423 | Large Internal Combustion Engines | 7/15/2002 | 4/28/2020, 85 FR 23700
Section .1900 Open Burning
Rule .1901 | Open Burning: Purpose: Scope | 7/1/2007 | 7/18/2017, 82 FR 32767
Rule .1902 | Definitions | 7/1/2007 | 7/18/2017, 82 FR 32767
Rule .1903 | Open Burning Without an Air Quality Permit | 7/1/2007 | 7/18/2017, 82 FR 32767
Rule .1904 | Air Curtain Burners | 7/1/1996 | 8/1/1997, 62 FR 41277
Rule .1907 | Multiple Violations Arising from a Single Episode | 7/1/2007 | 7/16/2019, 84 FR 33850
Section .2000 Transportation Conformity
Rule .2001 | Purpose, Scope and Applicability | 1/1/2018 | 9/30/2019, 84 FR 51416
Rule .2002 | Definitions | 1/1/2018 | 9/30/2019, 84 FR 51416
Rule .2003 | Transportation Conformity Determination | 1/1/2018 | 9/30/2019, 84 FR 51416
Rule .2004 | Determining Transportation Related Emissions | 4/1/1999 | 12/27/2002, 67 FR 78983
Rule .2005 | Memorandum of Agreement | 1/1/2018 | 9/30/2019, 84 FR 51416
Section .2400 Clean Air Interstate Rules
Rule .2401 | Purpose and Applicability | 5/1/2008 | 11/30/2009, 74 FR 62496
Rule .2402 | Definitions | 5/1/2008 | 11/30/2009, 74 FR 62496
Rule .2403 | Nitrogen Oxide Emissions | 5/1/2008 | 11/30/2009, 74 FR 62496
Rule .2404 | Sulfur Dioxide | 5/1/2008 | 11/30/2009, 74 FR 62496
Rule .2405 | Nitrogen Oxide Emissions During Ozone Season | 5/1/2008 | 11/30/2009, 74 FR 62496
Rule .2406 | Permitting | 7/1/2006 | 11/30/2009, 74 FR 62496
Rule .2407 | Monitoring, Reporting, and Recordkeeping | 5/1/2008 | 11/30/2009, 74 FR 62496
Rule .2408 | Trading Program and Banking | 7/1/2006 | 11/30/2009, 74 FR 62496
Rule .2409 | Designated Representative | 5/1/2008 | 11/30/2009, 74 FR 62496
Rule .2410 | Computation of Time | 7/1/2006 | 11/30/2009, 74 FR 62496
Rule .2411 | Opt-In Provisions | 7/1/2006 | 11/30/2009, 74 FR 62496
Rule .2412 | New Unit Growth | 5/1/2008 | 11/30/2009, 74 FR 62496
Rule .2413 | Periodic Review and Reallocations | 7/1/2006 | 11/30/2009, 74 FR 62496
Section .2600 Source Testing
Rule .2601 | Purpose and Scope | 6/1/2008 | 5/9/2013, 78 FR 27065
Rule .2602 | General Provisions on Test Methods and Procedures | 6/1/2008 | 5/9/2013, 78 FR 27065
Rule .2603 | Testing Protocol | 11/1/2019 | 10/7/2022, 87 FR 60895
Rule .2604 | Number of Test Points | 11/1/2019 | 10/7/2022, 87 FR 60895
Rule .2605 | Velocity and Volume Flow Rate | 11/1/2019 | 10/7/2022, 87 FR 60895
Rule .2606 | Molecular Weight | 11/1/2019 | 10/7/2022, 87 FR 60895
Rule .2607 | Determination of Moisture Content | 11/1/2019 | 10/7/2022, 87 FR 60895
Rule .2608 | Number of Runs and Compliance Determination | 11/1/2019 | 10/7/2022, 87 FR 60895
Rule .2609 | Particulate Testing Methods | 6/1/2008 | 4/9/2019, 84 FR 14019
Rule .2610 | Opacity | 11/1/2019 | 10/7/2022, 87 FR 60895
Rule .2611 | Sulfur Dioxide Testing Methods | 6/1/2008 | 4/9/2019, 84 FR 14019
Rule .2612 | Nitrogen Oxide Testing Methods | 11/1/2019 | 10/7/2022, 87 FR 60895
Rule .2613 | Volatile Organic Compound Testing Methods | 11/1/2019 | 10/7/2022, 87 FR 60895
Rule .2614 | Determination of VOC Emission Control System Efficiency | 11/1/2019 | 10/7/2022, 87 FR 60895
Rule .2615 | Determination of Leak Tightness and Vapor Leaks | 6/1/2008 | 5/9/2013, 78 FR 27065
Rule .2617 | Total Reduced Sulfur | 6/1/2008 | 4/9/2019, 84 FR 14019
Rule .2621 | Determination of Fuel Heat Content Using F-Factor | 6/1/2008 | 5/9/2013, 78 FR 27065
Subchapter 02Q Air Quality Permits
Section .0100 General Provisions
Rule .0101 | Required Air Quality Permits | 4/1/2018 | 7/17/2020, 85 FR 43461
Rule .0102 | Activities Exempted from Permit Requirements | 1/1/2005 | 8/22/2008, 73 FR 49613
Rule .0103 | Definitions | 4/1/2018 | 7/17/2020, 85 FR 43461
Rule .0104 | Where to Obtain and File Permit Applications | 4/1/2018 | 7/17/2020, 85 FR 43461
Rule .0105 | Copies of Referenced Documents | 4/1/2018 | 7/17/2020, 85 FR 43461
Rule .0106 | Incorporation by Reference | 4/1/2018 | 7/17/2020, 85 FR 43461
Rule .0107 | Confidential Information | 4/1/2018 | 7/17/2020, 85 FR 43461
Rule .0108 | Delegation of Authority | 4/1/2018 | 7/17/2020, 85 FR 43461
Rule .0109 | Compliance Schedule for Previously Exempted Activities | 4/1/2018 | 7/17/2020, 85 FR 43461
Rule .0110 | Retention of Permit at Permitted Facility | 4/1/2018 | 7/17/2020, 85 FR 43461
Rule .0111 | Applicability Determinations | 4/1/2018 | 7/17/2020, 85 FR 43461
Section .0200 Permit Fees
Rule .0207 | Annual Emissions Reporting | 4/1/2018 | 3/1/2021, 86 FR 11867
Section .0300 Construction and Operating Permits
Rule .0301 | Applicability | 4/1/2018 | 3/1/2021, 86 FR 11875
Rule .0303 | Definitions | 4/1/2018 | 3/1/2021, 86 FR 11875
Rule .0304 | Applications | 4/1/2018 | 3/1/2021, 86 FR 11875
Rule .0305 | Application Submittal Content | 4/1/2018 | 3/1/2021, 86 FR 11875
Rule .0306 | Permits Requiring Public Participation | 4/1/2018 | 3/1/2021, 86 FR 11875
Rule .0307 | Public Participation Procedures | 4/1/2018 | 3/1/2021, 86 FR 11875
Rule .0308 | Final Action on Permit Applications | 4/1/2018 | 3/1/2021, 86 FR 11875
Rule .0309 | Termination, Modification and Revocation of Permits | 4/1/2018 | 3/1/2021, 86 FR 11875
Rule .0310 | Permitting of Numerous Similar Facilities | 4/1/2018 | 3/1/2021, 86 FR 11875
Rule .0311 | Permitting of Facilities at Multiple Temporary Sites | 4/1/2018 | 3/1/2021, 86 FR 11875
Rule .0312 | Application Processing Schedule | 4/1/2018 | 3/1/2021, 86 FR 11875
Rule .0313 | Expedited Application Processing Schedule | 4/1/2018 | 3/1/2021, 86 FR 11875
Rule .0314 | General Permitting for All Requirements | 4/1/2018 | 3/1/2021, 86 FR 11875
Rule .0315 | Synthetic Minor Facilities | 4/1/2018 | 3/1/2021, 86 FR 11875
Rule .0316 | Administrative Permit Amendments | 4/1/2018 | 3/1/2021, 86 FR 11875
Rule .0317 | Avoidance Conditions | 4/1/2018 | 3/1/2021, 86 FR 11875
Section .0800 Exclusionary Rules
Rule .0801 | Purpose and Scope | 4/1/2018 | 10/18/2022, 87 FR 62990
Rule .0802 | Gasoline Service Stations and Dispensing Facilities | 4/1/2018 | 10/18/2022, 87 FR 62990
Rule .0803 | Coating, Solvent Cleaning, Graphic Arts Operations | 4/1/2018 | 10/18/2022, 87 FR 62990
Rule .0804 | Dry Cleaning Facilities | 4/1/2018 | 10/18/2022, 87 FR 62990
Rule .0805 | Grain Elevators | 4/1/2018 | 10/18/2022, 87 FR 62990
Rule .0806 | Cotton Gins | 4/1/2018 | 10/18/2022, 87 FR 62990
Rule .0807 | Emergency Generators | 4/1/2018 | 10/18/2022, 87 FR 62990
Rule .0808 | Peak Shaving Generators | 11/10/2005 | 6/18/2017, 82 FR 32767
Section .0900 Permit Exemptions
Rule .0901 | Purpose and Scope | 1/1/2005 | 9/29/2017, 82 FR 45473
Rule .0902 | Portable Crushers | 1/1/2005 | 9/29/2017, 82 FR 45473

(2) EPA-Approved Forsyth County Regulations
Citation | Title/subject | County effective date | EPA approval date | Explanation
Subchapter 3A Air Pollution Control
Section .0100 In General
Rule .0101 | Department Established | 12/19/1994 | 2/1/1996, 61 FR 3586
Rule .0102 | Enforcement of Chapter | 12/19/1994 | 2/1/1996, 61 FR 3586
Rule .0103 | General Powers and Duties of Director | 12/19/1994 | 2/1/1996, 61 FR 3586
Rule .0104 | Authority of Director to Establish Administrative Procedures | 12/19/1994 | 2/1/1996, 61 FR 3586
Rule .0105 | Fees for Inspections, Permits, and Certificates Required by Chapter | 12/19/1994 | 2/1/1996, 61 FR 3586
Rule .0106 | Penalties for Violation of Chapter | 9/14/1998 | 2/17/2000, 65 FR 8053
Rule .0107 | Civil Relief for Violations of Chapter | 12/19/1994 | 2/1/1996, 61 FR 3586
Rule .0108 | Chapter Does Not Prohibit Private Actions For Relief | 12/19/1994 | 2/1/1996, 61 FR 3586
Rule .0109 | Judicial Review of Administrative Decisions Rendered Under Chapter | 12/19/1994 | 2/1/1996, 61 FR 3586
Rule .0111 | Copies of Referenced Federal Regulations | 12/19/1994 | 2/1/1996, 61 FR 3586
Section .0200 Advisory Board
Rule .0201 | Established; Composition; Terms of Members | 12/19/1994 | 2/1/1996, 61 FR 3586
Rule .0202 | Secretary | 12/19/1994 | 2/1/1996, 61 FR 3586
Rule .0203 | Meetings | 12/19/1994 | 2/1/1996, 61 FR 3586
Rule .0204 | To Serve in Advisory Capacity; General Functions | 12/19/1994 | 2/1/1996, 61 FR 3586
Rule .0205 | Appeals to and Other Appearances Before Board | 12/19/1994 | 2/1/1996, 61 FR 3586
Rule .0206 | Opinions Not Binding | 12/19/1994 | 2/1/1996, 61 FR 3586
Section .0300 Remedies for Enforcement of Standards—Special Orders
Rule .0301 | Applicability | 12/19/1994 | 2/1/1996, 61 FR 3586
Rule .0302 | Issuance | 12/19/1994 | 2/1/1996, 61 FR 3586
Rule .0303 | Definitions | 12/19/1994 | 2/1/1996, 61 FR 3586
Rule 0304 | Categories of Sources | 12/19/1994 | 2/1/1996, 61 FR 3586
Rule .0305 | Enforcement Procedures | 12/19/1994 | 2/1/1996, 61 FR 3586
Rule .0306 | Required Procedures for Issuance of Special Orders by Consent and Special Orders | 12/19/1994 | 2/1/1996, 61 FR 3586
Rule .0307 | Documentation for Special Orders | 12/19/1994 | 2/1/1996, 61 FR 3586
Rule .0308 | Public Hearing | 12/19/1994 | 2/1/1996, 61 FR 3586
Rule .0309 | Compliance Bonds | 12/19/1994 | 2/1/1996, 61 FR 3586
Section .0400 Forsyth County Air Quality Technical Code
Rule .0401 | Adopted | 12/19/1994 | 2/1/1996, 61 FR 3586
Subchapter 3B Relationship to State Code
Rule .0101 | In General | 12/19/1994 | 2/1/1996, 61 FR 3586
Rule .0102 | Air Pollution Control Requirements (Subchapter 3D) | 12/19/1994 | 2/1/1996, 61 FR 3586
Rule .0103 | Air Quality Permits (Subchapter 3Q) | 12/19/1994 | 2/1/1996, 61 FR 3586
Subchapter 3D Air Pollution Control Requirements
Section .0100 Definitions and References
Rule .0101 | Definitions | 9/14/1998 | 2/17/2000, 65 FR 8053
Rule .0103 | Copies of Referenced Federal Regulations | 12/19/1994 | 2/1/1996, 61 FR 3586
Rule .0104 | Incorporation by Reference | 5/24/1999 | 10/22/2002, 67 FR 64994
Section .0200 Air Pollution Sources
Rule .0201 | Classification of Air Pollution Sources | 12/19/1994 | 2/1/1996, 61 FR 3586
Rule .0202 | Registration of Air Pollution Sources | 12/19/1994 | 2/1/1996, 61 FR 3586
Section .0300 Air Pollution Emergencies
Rule .0301 | Purpose | 12/19/1994 | 2/1/1996, 61 FR 3586
Rule .0302 | Episode Criteria | 12/19/1994 | 2/1/1996, 61 FR 3586
Rule .0303 | Emission Reduction Plans | 12/19/1994 | 2/1/1996, 61 FR 3586
Rule .0304 | Preplanned Abatement Program | 12/19/1994 | 2/1/1996, 61 FR 3586
Rule .0305 | Emission Reduction Plan: Alert Level | 12/19/1994 | 2/1/1996, 61 FR 3586
Rule .0306 | Emission Reduction Plan: Warning Level | 12/19/1994 | 2/1/1996, 61 FR 3586
Rule .0307 | Emission Reduction Plan: Emergency Level | 12/19/1994 | 2/1/1996, 61 FR 3586
Section .0400 Ambient Air Quality Standards
Rule .0401 | Purpose | 12/19/1994 | 2/1/1996, 61 FR 3586
Rule .0402 | Sulfur Oxides | 12/19/1994 | 2/1/1996, 61 FR 3586
Rule .0403 | Total Suspended Particulates | 12/19/1994 | 2/1/1996, 61 FR 3586
Rule .0404 | Carbon Monoxide | 12/19/1994 | 2/1/1996, 61 FR 3586
Rule .0405 | Ozone | 5/24/1999 | 10/22/2002, 67 FR 64994
Rule .0407 | Nitrogen Dioxide | 12/19/1994 | 2/1/1996, 61 FR 3586
Rule .0408 | Lead | 12/19/1994 | 2/1/1996, 61 FR 3586
Rule .0409 | Particulate Matter | 12/19/1994 | 2/1/1996, 61 FR 3586
Rule .0410 | PM2.5 Particulate Matter | 5/24/1999 | 10/22/2002, 67 FR 64994
Section .0500 Emission Control Standards
Rule .0501 | Compliance With Emission Control Standards | 5/24/1999 | 10/22/2002, 67 FR 64994
Rule .0502 | Purpose | 12/19/1994 | 2/1/1996, 61 FR 3586
Rule .0503 | Particulates From Fuel Burning Indirect Heat Exchangers | 5/24/1999 | 10/22/2002, 67 FR 64994
Rule .0504 | Particulates from Wood Burning Indirect Heat Exchangers | 7/22/2002 | 9/16/2003, 68 FR 54166
Rule .0506 | Particulates from Hot Mix Asphalt Plants | 9/14/1998 | 2/17/2000, 65 FR 8053
Rule .0507 | Particulates from Chemical Fertilizer Manufacturing Plants | 9/14/1998 | 2/17/2000, 65 FR 8053
Rule .0508 | Particulates from Pulp and Paper Mills | 9/14/1998 | 2/17/2000, 65 FR 8053
Rule .0509 | Particulates from Mica or Feldspar Processing Plants | 9/14/1998 | 2/17/2000, 65 FR 8053
Rule .0510 | Particulates from Sand, Gravel, or Crushed Stone Operations | 9/14/1998 | 2/17/2000, 65 FR 8053
Rule .0511 | Particulates from Lightweight Aggregate Processes | 9/14/1998 | 2/17/2000, 65 FR 8053
Rule .0512 | Particulates from Wood Products Finishing Plants | 7/28/1997 | 12/31/1998, 63 FR 72190
Rule .0513 | Control of Particulates From Portland Cement Plants | 12/19/1994 | 2/1/1996, 61 FR 3586
Rule .0514 | Control of Particulates From Ferrous Jobbing Foundries | 12/19/1994 | 2/1/1996, 61 FR 3586
Rule .0515 | Particulates from Miscellaneous Industrial Processes | 9/14/1998 | 2/17/2000, 65 FR 8053
Rule .0516 | Sulfur Dioxide Emissions from Combustion Sources | 11/29/1995 | 5/26/1996, 61 FR 25789
Rule .0517 | Emissions from Plants Producing Sulfuric Acid | 12/19/1994 | 2/1/1996, 61 FR 3586 | Except for item 2.
Rule .0519 | Control of Nitrogen Dioxide and Nitrogen Oxides Emissions | 12/19/1994 | 2/1/1996, 61 FR 3586
Rule .0520 | Control and Prohibition of Open Burning | 12/19/1994 | 2/1/1996, 61 FR 3586
Rule .0521 | Control of Visible Emissions | 9/14/1998 | 2/17/2000, 65 FR 8053
Rule .0523 | Control of Conical Incinerators | 12/19/1994 | 2/1/1996, 61 FR 3586
Rule .0527 | Emissions from Spodumene Ore Roasting | 12/19/1994 | 2/1/1996, 61 FR 3586 | Except for item (2).
Rule .0530 | Prevention of Significant Deterioration | 8/14/1995 | 5/23/1996, 61 FR 25789 | Except for Paragraphs (a), (l), (o), and (s) approved on 12/31/1998 with a state effective date of 7/28/1997.
Rule .0531 | Sources in Nonattainment Areas | 11/13/1995 | 2/17/2000, 65 FR 8053
Rule .0532 | Sources Contributing to an Ambient Violation | 12/19/1994 | 2/1/1996, 61 FR 3586
Rule .0533 | Stack Height | 12/19/1994 | 2/1/1996, 61 FR 3586
Rule .0535 | Excess Emissions Reporting and Malfunctions | 9/14/1998 | 2/17/2000, 65 FR 8053
Rule .0536 | Particulate Emissions From Electric Utility Boilers | 12/19/1994 | 2/1/1996, 61 FR 3586
Section .0600 Monitoring: Recordkeeping: Reporting
Rule .0601 | Purpose and Scope | 5/24/1999 | 10/22/2002, 67 FR 64994
Rule .0602 | Definitions | 5/24/1999 | 10/22/2002, 67 FR 64994
Rule .0604 | Exceptions to Monitoring and Reporting Requirements | 5/24/1999 | 10/22/2002, 67 FR 64994
Rule .0605 | General Recordkeeping and Reporting Requirements | 5/24/1999 | 10/22/2002, 67 FR 64994
Rule .0606 | Sources Covered By Appendix P of 40 CFR Part 51 | 5/24/1999 | 10/22/2002, 67 FR 64994
Rule .0607 | Large Wood and Wood-fossil Fuel Combination Units | 5/24/1999 | 10/22/2002, 67 FR 64994
Rule .0608 | Program Schedule | 12/19/1994 | 2/1/1996, 61 FR 3586
Rule .0610 | Delegation | 12/19/1994 | 2/1/1996, 61 FR 3586
Rule .0611 | Monitoring Emissions from Other Sources | 5/24/1999 | 10/22/2002, 67 FR 64994
Rule .0612 | Alternative Monitoring and Reporting Procedures | 5/24/1999 | 10/22/2002, 67 FR 64994
Rule .0613 | Quality Assurance Program | 5/24/1999 | 10/22/2002, 67 FR 64994
Rule .0614 | Compliance Assurance Monitoring | 5/24/1999 | 10/22/2002, 67 FR 64994
Rule .0615 | Delegation | 5/24/1999 | 10/22/2002, 67 FR 64994
Section .0800 Transportation Facilities
Rule .0801 | Purpose and Scope | 12/19/1994 | 2/1/1996, 61 FR 3586
Rule .0802 | Definitions | 12/19/1994 | 2/1/1996, 61 FR 3586
Rule .0803 | Highway Projects | 12/19/1994 | 2/1/1996, 61 FR 3586
Rule .0804 | Airport Facilities | 12/19/1994 | 2/1/1996, 61 FR 3586
Rule .0805 | Parking Facilities | 12/19/1994 | 2/1/1996, 61 FR 3586
Rule .0806 | Ambient Monitoring and Modeling Analysis | 12/19/1994 | 2/1/1996, 61 FR 3586
Section .0900 Volatile Organic Compounds
Rule .0901 | Definitions | 12/19/1994 | 2/1/1996, 61 FR 3586
Rule .0902 | Applicability | 7/28/1997 | 12/31/1998, 63 FR 72190 | Paragraphs (a) through (i) only.
Rule .0903 | Recordkeeping: Reporting: Monitoring | 5/24/1999 | 10/22/2002, 67 FR 64994
Rule .0906 | Circumvention | 12/19/1994 | 2/1/1996, 61 FR 3586
Rule .0909 | Compliance Schedules for Sources in New Nonattainment Areas | 11/13/1995 | 2/17/2000, 65 FR 8053 | Except Paragraphs (a) through (c), (g), and (h) approved on 12/31/1998 with a state effective date of 7/28/1997.
Rule .0912 | General Provisions on Test Methods and Procedures | 12/19/1994 | 2/1/1996, 61 FR 3586
Rule .0913 | Determination of Volatile Content of Surface Coatings | 12/19/1994 | 2/1/1996, 61 FR 3586
Rule .0914 | Determination of VOC Emission Control System Efficiency | 9/14/1998 | 2/17/2000, 65 FR 8053
Rule .0915 | Determination of Solvent Metal Cleaning VOC Emissions | 12/19/1994 | 2/1/1996, 61 FR 3586
Rule .0916 | Determination: VOC Emissions from Bulk Gasoline Terminals | 12/19/1994 | 2/1/1996, 61 FR 3586
Rule .0917 | Automobile and Light-Duty Truck Manufacturing | 12/19/1994 | 2/1/1996, 61 FR 3586
Rule .0918 | Can Coating | 12/19/1994 | 2/1/1996, 61 FR 3586
Rule .0919 | Coil Coating | 12/19/1994 | 2/1/1996, 61 FR 3586
Rule .0920 | Paper Coating | 12/19/1994 | 2/1/1996, 61 FR 3586
Rule .0921 | Fabric and Vinyl Coating | 12/19/1994 | 2/1/1996, 61 FR 3586
Rule .0922 | Metal Furniture Coating | 12/19/1994 | 2/1/1996, 61 FR 3586
Rule .0923 | Surface Coating of Large Appliances | 12/19/1994 | 2/1/1996, 61 FR 3586
Rule .0924 | Magnet Wire Coating | 12/19/1994 | 2/1/1996, 61 FR 3586
Rule .0925 | Petroleum Liquid Storage in Fixed Roof Tanks | 12/19/1994 | 2/1/1996, 61 FR 3586
Rule .0926 | Bulk Gasoline Plants | 12/19/1994 | 2/1/1996, 61 FR 3586
Rule .0927 | Bulk Gasoline Terminals | 7/22/2002 | 9/16/2003, 68 FR 54166
Rule .0928 | Gasoline Service Stations Stage I | 12/19/1994 | 2/1/1996, 61 FR 3586
Rule .0929 | Petroleum Refinery Sources | 12/19/1994 | 2/1/1996, 61 FR 3586
Rule .0930 | Solvent Metal Cleaning | 12/19/1994 | 2/1/1996, 61 FR 3586
Rule .0931 | Cutback Asphalt | 12/19/1994 | 2/1/1996, 61 FR 3586
Rule .0932 | Gasoline Truck Tanks and Vapor Collection Systems | 7/22/2002 | 9/16/2003, 68 FR 54166
Rule .0933 | Petroleum Liquid Storage in External Floating Roof Tanks | 12/19/1994 | 2/1/1996, 61 FR 3586
Rule .0934 | Coating of Miscellaneous Metal Parts and Products | 12/19/1994 | 2/1/1996, 61 FR 3586
Rule .0935 | Factory Surface Coating of Flat Wood Paneling | 12/19/1994 | 2/1/1996, 61 FR 3586
Rule .0936 | Graphic Arts | 12/19/1994 | 2/1/1996, 61 FR 3586
Rule .0937 | Manufacture of Pneumatic Rubber Tires | 12/19/1994 | 2/1/1996, 61 FR 3586
Rule .0939 | Determination of Volatile Organic Compound Emissions | 12/19/1994 | 2/1/1996, 61 FR 3586
Rule .0940 | Determination of Leak Tightness and Vapor Leaks | 12/19/1994 | 2/1/1996, 61 FR 3586
Rule .0941 | Alternative Method for Leak Tightness | 12/19/1994 | 2/1/1996, 61 FR 3586
Rule .0942 | Determination of Solvent in Filter Waste | 12/19/1994 | 2/1/1996, 61 FR 3586
Rule .0943 | Synthetic Organic Chemical and Polymer Manufacturing | 12/19/1994 | 2/1/1996, 61 FR 3586
Rule .0944 | Manufacture of Polyethylene, Polypropylene and Polystyrene | 12/19/1994 | 2/1/1996, 61 FR 3586
Rule .0945 | Petroleum Dry Cleaning | 12/19/1994 | 2/1/1996, 61 FR 3586
Rule .0947 | Manufacture of Synthesized Pharmaceutical Products | 12/19/1994 | 2/1/1996, 61 FR 3586
Rule .0948 | VOC Emissions from Transfer Operations | 12/19/1994 | 2/1/1996, 61 FR 3586
Rule .0949 | Storage of Miscellaneous Volatile Organic Compounds | 12/19/1994 | 2/1/1996, 61 FR 3586
Rule .0950 | Interim Standards for Certain Source Categories | 11/13/1995 | 2/17/2000, 65 FR 8053
Rule .0951 | Miscellaneous Volatile Organic Compound Emissions | 12/19/1994 | 2/1/1996, 61 FR 3586
Rule .0952 | Petition for Alternative Controls | 11/13/1995 | 2/17/2000, 65 FR 8053
Rule .0953 | Vapor Return Piping for Stage II Vapor Recovery | 9/14/1998 | 2/17/2000, 65 FR 8053
Rule .0954 | Stage II Vapor Recovery | 11/13/1995 | 2/17/2000, 65 FR 8053 | Except Paragraphs (a) and (f) approved on 12/31/1998 with a state effective date of 7/28/1997.
Rule .0955 | Thread Bonding Manufacturing | 8/14/1995 | 5/23/1996, 61 FR 25789
Rule .0956 | Glass Christmas Ornament Manufacturing | 8/14/1995 | 5/23/1996, 61 FR 25789
Rule .0957 | Commercial Bakeries | 8/14/1995 | 5/23/1996, 61 FR 25789
Section .1900 Open Burning
Rule .1903 | Permissible Open Burning | 10/25/1999 | 8/9/2002, 67 FR 51763
Rule .1904 | Air Curtain Burners | 10/25/1999 | 8/9/2002, 67 FR 51763
Section .2000 Transportation Conformity
Rule .2003 | Transportation Conformity Determination | 10/25/1999 | 8/9/2002, 67 FR 51763
Subchapter 3Q Air Quality Permits
Section .0100 General Provisions
Rule .0101 | Required Air Quality Permits | 9/14/1998 | 2/17/2000, 65 FR 8053
Rule .0102 | Activities Exempted From Permit Requirements | 7/22/2002 | 9/16/2003, 68 FR 54163
Rule .0103 | Definitions | 10/25/1999 | 8/9/2002, 67 FR 51763
Rule .0104 | Where to Obtain and File Permit Applications | 12/19/1994 | 2/1/1996, 61 FR 3586 | Except paragraph (b) approved on 12/31/1998 with a state effective date of 7/28/1997.
Rule .0105 | Copies of Referenced Documents | 12/19/1994 | 2/1/1996, 61 FR 3586
Rule .0106 | Incorporation by Reference | 12/19/1994 | 2/1/1996, 61 FR 3586
Rule .0107 | Confidential Information | 5/24/1999 | 10/22/2002, 67 FR 64994
Rule .0108 | Delegation of Authority | 12/19/1994 | 2/1/1996, 61 FR 3586
Rule .0109 | Compliance Schedule for Previously Exempted Activities | 12/19/1994 | 2/1/1996, 61 FR 3586
Rule .0110 | Retention of Permit at Permitted Facility | 12/19/1994 | 2/1/1996, 61 FR 3586
Rule .0111 | Applicability Determinations | 12/19/1994 | 2/1/1996, 61 FR 3586
Section .0200 Permit Fees
Rule .0207 | Annual Emissions Reporting | 9/14/1998 | 2/17/2000, 65 FR 8053
Section .0300 Construction and Operation Permit
Rule .0301 | Applicability | 9/14/1998 | 2/17/2000, 65 FR 8053
Rule .0302 | Facilities Not Likely to Contravene Demonstration | 9/14/1998 | 2/17/2000, 65 FR 8053
Rule .0303 | Definitions | 12/19/1994 | 2/1/1996, 61 FR 3586
Rule .0304 | Applications | 5/24/1999 | 10/22/2002, 67 FR 64994
Rule .0305 | Application Submittal Content | 12/19/1994 | 2/1/1996, 61 FR 3586
Rule .0306 | Permits Requiring Public Participation | 5/24/1999 | 10/22/2002, 67 FR 64994
Rule .0307 | Public Participation Procedures | 12/19/1994 | 2/1/1996, 61 FR 3586 | Except paragraph (i) approved on 12/31/1998 with a 7/28/1999 effective date.
Rule .0308 | Final Action on Permit Applications | 12/19/1994 | 2/1/1996, 61 FR 3586
Rule .0309 | Termination, Modification and Revocation of Permits | 5/24/1999 | 10/22/2002, 67 FR 64994
Rule .0310 | Permitting of Numerous Similar Facilities | 12/19/1994 | 2/1/1996, 61 FR 3586
Rule .0311 | Permitting of Facilities at Multiple Temporary Sites | 12/19/1994 | 2/1/1996, 61 FR 3586
Rule .0312 | Application Processing Schedule | 9/14/1998 | 2/17/2000, 65 FR 8053
Rule .0314 | General Permit Requirements | 5/24/1999 | 10/22/2002, 67 FR 64994
Rule .0315 | Synthetic Minor Facilities | 5/24/1999 | 10/22/2002, 67 FR 64994
Section .0600 Transportation Facility Procedures
Rule .0601 | Purpose of Section and Requirement for a Permit | 12/19/1994 | 2/1/1996, 61 FR 3586
Rule .0602 | Definitions | 12/19/1994 | 2/1/1996, 61 FR 3586
Rule .0603 | Applications | 12/19/1994 | 2/1/1996, 61 FR 3586 | Except paragraph (e) approved on 12/31/1998 with a state effective date of 7/28/97.
Rule .0604 | Public Participation | 12/19/1994 | 2/1/1996, 61 FR 3586
Rule .0605 | Final Action on Permit Application | 12/19/1994 | 2/1/1996, 61 FR 3586
Rule .0606 | Termination, Modification and Revocation of Permits | 12/19/1994 | 2/1/1996, 61 FR 3586
Rule .0607 | Application Processing Schedule | 9/14/1998 | 2/17/2000, 65 FR 8053
Section .0800 Exclusionary Rules
Rule .0801 | Purpose and Scope | 5/24/1999 | 10/22/2002, 67 FR 64994
Rule .0802 | Gasoline Service Stations and Dispensing Facilities | 11/13/1995 | 2/17/2000, 65 FR 8053
Rule .0803 | Coating, Solvent Cleaning, Graphic Arts Operations | 5/24/1999 | 10/22/2002, 75 FR 64994
Rule .0804 | Dry Cleaning Facilities | 11/13/1995 | 2/17/2000, 65 FR 8053
Rule .0805 | Grain Elevators | 9/14/1998 | 2/17/2000, 65 FR 8053
Rule .0806 | Cotton Gins | 9/14/1998 | 2/17/2000, 65 FR 8053
Rule .0807 | Emergency Generators | 9/14/1998 | 2/17/2000, 65 FR 8053
Rule .0808 | Peak Shaving Generators | 5/24/1999 | 10/22/2002, 67 FR 64990

(3) EPA-Approved Mecklenburg County Regulations
Citation | Title/subject | County effective date | EPA approval date | Explanation
Article 1.000 Permitting Provisions for Air Pollution Sources, Rules and Operating Regulations for Acid Rain Sources, Title V and Toxic Air Pollutants
Section 1.5100 General Provisions and Administrations
Rule 1.5101 | Declaration of Policy | 4/3/1989 | 5/2/1991, 56 FR 20140
Rule 1.5102 | Definition of Terms | 12/18/2018 | 1/11/2022, 87 FR 1356
Rule 1.5103 | Enforcement Agency | 4/3/1989 | 5/2/1991, 56 FR 20140
Rule 1.5104 | General Duties and Powers of the Director, With the Approval of the Board | 12/15/2015 | 1/11/2022, 87 FR 1356
Rule 1.5111 | General Recordkeeping, Reporting and Monitoring Requirements | 12/18/2018 | 1/11/2022, 87 FR 1356
Section 1.5200 Air Quality Permits
Rule 1.5210 | Purpose and Scope | 4/3/1989 | 5/2/1991, 56 FR 20140
Rule 1.5211 | Applicability | 11/21/2000 | 10/22/2002, 67 FR 64999
Rule 1.5212 | Applications | 12/18/2018 | 12/2/2021, 86 FR 68411
Rule 1.5213 | Action on Application; Issuance of Permit | 12/18/2018 | 12/2/2021, 86 FR 68411
Rule 1.5214 | Commencement of Operation | 12/15/2015 | 12/2/2021, 86 FR 68411
Rule 1.5215 | Application Processing Schedule | 12/18/2018 | 12/2/2021, 86 FR 68411
Rule 1.5216 | Incorporated By Reference | 6/6/1994 | 7/28/1995, 60 FR 38715
Rule 1.5217 | Confidential Information | 12/18/2018 | 12/2/2021, 86 FR 68411
Rule 1.5218 | Compliance Schedule for Previously Exempted Activities | 12/18/2018 | 12/2/2021, 86 FR 68411
Rule 1.5219 | Retention of Permit at Permitted Facility | 12/18/2018 | 12/2/2021, 86 FR 68411
Rule 1.5220 | Applicability Determination | 12/18/2018 | 12/2/2021, 86 FR 68411
Rule 1.5221 | Permitting of Numerous Similar Facilities | 12/18/2018 | 12/2/2021, 86 FR 68411
Rule 1.5222 | Permitting of Facilities at Multiple Temporary Sites | 12/18/2018 | 12/2/2021, 86 FR 68411
Rule 1.5230 | Permitting Rules and Procedures | 4/3/1989 | 5/2/1991, 56 FR 20140
Rule 1.5231 | Air Quality Fees | 7/1/1996 | 6/30/2003, 68 FR 38632
Rule 1.5232 | Issuance, Revocation, and Enforcement of Permits | 12/18/2018 | 12/2/2021, 86 FR 68411
Rule 1.5234 | Hearings | 6/6/1994 | 7/28/1995, 60 FR 38715
Rule 1.5235 | Delegation of Authority | 4/3/1989 | 5/2/1991, 56 FR 20140
Section 1.5300 Enforcement; Variances; Judicial Review
Rule 1.5301 | Special Enforcement Procedures | 12/15/2015 | 9/28/2021, 86 FR 53552
Rule 1.5302 | Criminal Penalties | 12/15/2015 | 9/28/2021, 86 FR 53552
Rule 1.5303 | Civil Injunction | 12/15/2015 | 9/28/2021, 86 FR 53552
Rule 1.5304 | Civil Penalties | 12/15/2015 | 9/28/2021, 86 FR 53552
Rule 1.5305 | Variances | 7/1/1996 | 6/30/2003, 68 FR 38632
Rule 1.5306 | Hearings | 12/15/2015 | 9/28/2021, 86 FR 53552
Rule 1.5307 | Judicial Review | 12/15/2015 | 9/28/2021, 86 FR 53552
Section 1.5600 Transportation Facility Procedures
Rule 1.5604 | Public Participation | 7/1/1996 | 6/30/2003, 68 FR 38632
Rule 1.5607 | Application Processing Schedule | 7/1/1996 | 6/30/2003, 68 FR 38632
Article 2.0000 Air Pollution Control Regulations and Procedures
Section 2.0100 Definitions and References
Rule 2.0101 | Definitions | 12/18/2015 | 9/28/2021, 86 FR 53552
Rule 2.0104 | Adoption by Reference Updates | 4/3/1989 | 5/2/1991, 56 FR 20140
Section 2.0200 Air Pollution Sources
Rule 2.0201 | Classification of Air Pollution Sources | 12/18/2015 | 9/28/2021, 86 FR 53552
Rule 2.0202 | Registration of Air Pollution Sources | 12/18/2015 | 9/28/2021, 86 FR 53552
Section 2.0300 Air Pollution Emergencies
Rule 2.0301 | Purpose | 12/15/2015 | 9/28/2021, 86 FR 53552
Rule 2.0302 | Episode Criteria | 12/18/2015 | 9/28/2021, 86 FR 53552
Rule 2.0303 | Emission Reduction Plans | 12/18/2015 | 9/28/2021, 86 FR 53552
Rule 2.0304 | Preplanned Abatement Program | 12/18/2015 | 9/28/2021, 86 FR 53552
Rule 2.0305 | Emission Reduction Plan: Alert Level | 12/15/2015 | 9/28/2021, 86 FR 53552
Rule 2.0306 | Emission Reduction Plan: Warning Level | 4/3/1989 | 5/2/1991, 56 FR 20140
Rule 2.0307 | Emission Reduction Plan: Emergency Level | 4/3/1989 | 5/2/1991, 56 FR 20140
Section 2.0400 Ambient Air Quality Standards
Rule 2.0401 | Purpose | 12/18/2018 | 11/17/2021, 86 FR 64073
Rule 2.0402 | Sulfur Oxides | 12/18/2018 | 11/17/2021, 86 FR 64073
Rule 2.0403 | Total Suspended Particulates | 12/15/2015 | 11/17/2021, 86 FR 64073
Rule 2.0404 | Carbon Monoxide | 12/18/2018 | 11/17/2021, 86 FR 64073
Rule 2.0405 | Ozone | 12/18/2018 | 11/17/2021, 86 FR 64073
Rule 2.0407 | Nitrogen Dioxide | 12/18/2018 | 11/17/2021, 86 FR 64073
Rule 2.0408 | Lead | 12/18/2018 | 11/17/2021, 86 FR 64073
Rule 2.0409 | Particulate Matter | 4/3/1989 | 5/2/1991, 56 FR 20140
Rule 2.0410 | PM2.5 Particulate Matter | 12/18/2018 | 11/17/2021, 86 FR 64073
Section 2.0500 Emission Control Standards
Rule 2.0501 | Compliance With Emission Control Standards | 6/1/2008 | 1/25/2022, 87 FR 3663 | Except for the addition of paragraph 2.0501(e); and except for changes to remove and recodify the prefatory text at 2.0501(c) and for subparagraphs (c)(3), (c)(4), (c)(5), (c)(6), (c)10, (c)(15), (c)(16), and (c)(18), which will remain unchanged with a state effective date of June 14, 1990. Because EPA is acting on other portions of Rule 2.0501, which includes moving former paragraph (e) to paragraph (c) with an effective date of June 1, 2008, there are two paragraphs 2.0501(c), with different state effective dates.
Rule 2.0502 | Purpose | 4/3/1989 | 5/2/1991, 56 FR 20140
Rule 2.0503 | Particulates from Fuel Burning Indirect Heat Exchangers | 4/3/1989 | 5/2/1991, 56 FR 20140
Rule 2.0504 | Particulates from Wood Burning Indirect Heat Exchangers | 4/3/1989 | 5/2/1991, 56 FR 20140
Rule 2.0506 | Control of Particulates from Hot Mix Asphalt Plants | 4/3/1989 | 5/2/1991, 56 FR 20140
Rule 2.0507 | Particulates from Chemical Fertilizer Manufacturing Plants | 4/3/1989 | 5/2/1991, 56 FR 20140
Rule 2.0508 | Control of Particulates from Pulp and Paper Mills | 4/3/1989 | 5/2/1991, 56 FR 20140
Rule 2.0509 | Particulates from Mica or Feldspar Processing Plants | 4/3/1989 | 5/2/1991, 56 FR 20140
Rule 2.0510 | Particulates: Sand: Gravel: Crushed Stone Operations | 4/3/1989 | 5/2/1991, 56 FR 20140
Rule 2.0511 | Particulates: SO(2) From Lightweight Aggregate Processes | 4/3/1989 | 5/2/1991, 56 FR 20140
Rule 2.0512 | Particulates from Wood Products Finishing Plants | 4/3/1989 | 5/2/1991, 56 FR 20140
Rule 2.0513 | Control of Particulates from Portland Cement Plants | 4/3/1989 | 5/2/1991, 56 FR 20140
Rule 2.0514 | Control of Particulates from Ferrous Jobbing Foundries | 4/3/1989 | 5/2/1991, 56 FR 20140
Rule 2.0515 | Particulates from Miscellaneous Industrial Processes | 4/3/1989 | 5/2/1991, 56 FR 20140
Rule 2.0516 | Sulfur Dioxide Emissions from Fuel Burning Installations | 4/3/1989 | 5/2/1991, 56 FR 20140
Rule 2.0517 | Emissions From Plants Producing Sulfuric Acid | 4/3/1989 | 5/2/1991, 56 FR 20140 | Except for item (2).
Rule 2.0518 | Miscellaneous Volatile Organic Compound Emissions | 11/21/2000 | 10/22/2002, 67 FR 64999
Rule 2.0519 | Control of Nitrogen Dioxide Emissions | 4/3/1989 | 5/2/1991, 56 FR 20140
Rule 2.0523 | Control of Conical Incinerators | 11/21/2000 | 10/22/2002, 67 FR 64999
Rule 2.0530 | Prevention of Significant Deterioration | 10/17/2017 | 10/6/2022, 87 FR 60551 | Except for the incorporation by reference of 40 CFR 51.166(b)(2)(iii)(a), which is instead incorporated by reference as of July 1, 1988. Except for the incorporation by reference of 40 CFR 51.166(b)(2)(v), (b)(3)(iii)(d), (b)(53) through (56), and (y).
Rule 2.0531 | Sources in Nonattainment Areas | 4/3/1989 | 5/2/1991, 56 FR 20140
Rule 2.0532 | Sources Contributing to an Ambient Violation | 4/3/1989 | 5/2/1991, 56 FR 20140
Rule 2.0533 | Stack Height | 4/3/1989 | 5/2/1991, 56 FR 20140
Rule 2.0535 | Malfunctions, Start-Up and Shut-Down | 4/3/1989 | 5/2/1991, 56 FR 20140
Rule 2.0544 | Prevention of Significant Deterioration Requirements for Greenhouse Gases | 12/15/2015 | 10/6/2022, 87 FR 60551 | Except for the Biomass Deferral Rule language contained in the second sentence of 40 CFR 51.166(b)(48)(ii)(a).
Section 2.0600 Monitoring: Recordkeeping: Reporting
Rule 2.0601 | Purpose and Scope | 12/15/2015 | 1/25/2022, 87 FR 3675
Rule 2.0602 | Definitions | 12/15/2015 | 1/25/2022, 87 FR 3675
Rule 2.0604 | Exceptions to Monitoring and Reporting Requirements | 12/15/2015 | 1/25/2022, 87 FR 3675
Rule 2.0605 | General Recordkeeping and Reporting Requirements | 12/15/2015 | 1/25/2022, 87 FR 3675
Rule 2.0606 | Sources Covered by Appendix P of 40 CFR Part 51 | 6/14/1991 | 5/2/1991, 56 FR 20140
Rule 2.0607 | Large Wood and Wood-Fossil Fuel Combination Units | 12/15/2015 | 1/25/2022, 87 FR 3675
Rule 2.0608 | Program Schedule | 4/3/1989 | 5/2/1991, 56 FR 20140
Rule 2.0610 | Delegation Federal Monitoring Requirements | 12/15/2015 | 1/25/2022, 87 FR 3675
Rule 2.0611 | Monitoring Emissions From Other Sources | 12/15/2015 | 1/25/2022, 87 FR 3675
Rule 2.0613 | Quality Assurance Program | 12/15/2015 | 1/25/2022, 87 FR 3675
Section 2.0900 Volatile Organic Compounds
Rule 2.0901 | Definitions | 1/1/2009 | 1/25/2022, 87 FR 3663
Rule 2.0902 | Applicability | 10/16/2004 | 9/12/2007, 72 FR 52012
Rule 2.0903 | Recordkeeping: Reporting: Monitoring | 7/1/1991 | 6/23/1994, 59 FR 32362
Rule 2.0906 | Circumvention | 12/15/2015 | 2/28/2022, 87 FR 10975
Rule 2.0907 | Equipment Installation Compliance Schedules | 4/3/1989 | 5/2/1991, 56 FR 20140
Rule 2.0909 | Low Solvent Content Coating Compliance Schedules | 4/3/1989 | 5/2/1991, 56 FR 20140
Rule 2.0911 | Expectation for Compliance Schedule | 4/3/1989 | 5/2/1991, 56 FR 20140
Rule 2.0912 | General Provisions on Test Methods and Procedures | 6/1/2008 | 1/25/2022, 87 FR 3663
Rule 2.0914 | Determination of VOC Emission Control System Efficiency | 4/3/1989 | 5/2/1991, 56 FR 20140
Rule 2.0917 | Automobile and Light-Duty Truck Manufacturing | 4/3/1989 | 5/2/1991, 56 FR 20140
Rule 2.0918 | Can Coating | 12/15/2015 | 2/28/2022, 87 FR 10975
Rule 2.0919 | Coil Coating | 12/15/2015 | 2/28/2022, 87 FR 10975
Rule 2.0920 | Paper Coating | 4/3/1989 | 5/2/1991, 56 FR 20140
Rule 2.0921 | Fabric and Vinyl Coating | 4/3/1989 | 5/2/1991, 56 FR 20140
Rule 2.0922 | Metal Furniture Coating | 4/3/1989 | 5/2/1991, 56 FR 20140
Rule 2.0923 | Surface Coating of Large Appliances | 4/3/1989 | 5/2/1991, 56 FR 20140
Rule 2.0924 | Magnet Wire Coating | 12/15/2015 | 2/28/2022, 87 FR 10975
Rule 2.0925 | Petroleum Liquid Storage in Fixed Roof Tanks | 12/15/2015 | 2/28/2022, 87 FR 10975
Rule 2.0926 | Bulk Gasoline Plants | 12/15/2015 | 2/28/2022, 87 FR 10975
Rule 2.0927 | Bulk Gasoline Terminals | 12/15/2015 | 2/28/2022, 87 FR 10975
Rule 2.0928 | Gasoline Service Stations Stage 1 | 12/15/2015 | 2/28/2022, 87 FR 10975
Rule 2.0930 | Solvent Metal Cleaning | 12/15/2015 | 2/28/2022, 87 FR 10975
Rule 2.0931 | Cutback Asphalt | 12/15/2015 | 2/28/2022, 87 FR 10975
Rule 2.0932 | Gasoline Truck Tanks and Vapor Collection Systems | 4/3/1989 | 5/2/1991, 56 FR 20140
Rule 2.0933 | Petroleum Liquid Storage in External Floating Roof Tanks | 12/15/2015 | 2/28/2022, 87 FR 10975
Rule 2.0934 | Coating of Miscellaneous Metal Parts and Products | 3/1/1991 | 6/23/1994, 59 FR 32362
Rule 2.0935 | Factory Surface Coating of Flat Wood Paneling | 4/3/1989 | 5/2/1991, 56 FR 20140
Rule 2.0936 | Graphic Arts | 4/3/1989 | 5/2/1991, 56 FR 20140
Rule 2.0937 | Manufacture of Pneumatic Rubber Tires | 12/15/2015 | 2/28/2022, 87 FR 10975
Rule 2.0943 | Synthetic Organic Chemical and Polymer Manufacturing | 6/1/2008 | 1/25/2022, 87 FR 3663
Rule 2.0944 | Manufacture of Polyethylene, Polypropylene and Polystyrene | 12/15/2015 | 2/28/2022, 87 FR 10975
Rule 2.0945 | Petroleum Dry Cleaning | 6/1/2008 | 1/25/2022, 87 FR 3663
Rule 2.0947 | Manufacture of Synthesized Pharmaceutical Products | 12/15/2015 | 2/28/2022, 87 FR 10975
Rule 2.0948 | VOC Emissions from Transfer Operations | 12/15/2015 | 2/28/2022, 87 FR 10975
Rule 2.0949 | Storage of Miscellaneous Volatile Organic Compounds | 12/15/2015 | 2/28/2022, 87 FR 10975
Rule 2.0951 | Miscellaneous Volatile Organic Compound Emissions | 7/1/2000 | 10/22/2002, 67 FR 64999
Rule 2.0958 | Work Practices for Sources of Volatile Organic Compounds | 12/15/2015 | 2/28/2022, 87 FR 10975
Section 2.2600 Source Testing
Rule 2.2602 | General Provisions on Test Methods and Procedures | 6/1/2008 | 1/25/2022, 87 FR 3663 | Except for paragraph 2.2602(i).
Rule 2.2603 | Testing Protocol | 6/1/2008 | 1/25/2022, 87 FR 3663
Rule 2.2604 | Number of Test Points | 6/1/2008 | 1/25/2022, 87 FR 3663
Rule 2.2605 | Velocity and Volume Flow Rate | 6/1/2008 | 1/25/2022, 87 FR 3663
Rule 2.2606 | Molecular Weight | 6/1/2008 | 1/25/2022, 87 FR 3663
Rule 2.2607 | Determination of Moisture Content | 6/1/2008 | 1/25/2022, 87 FR 3663
Rule 2.2608 | Number of Runs and Compliance Determination | 6/1/2008 | 1/25/2022, 87 FR 3663
Rule 2.2610 | Opacity | 6/1/2008 | 1/25/2022, 87 FR 3663
Rule 2.2612 | Nitrogen Oxide Testing Methods | 6/1/2008 | 1/25/2022, 87 FR 3663
Rule 2.2613 | Volatile Organic Compound Testing Methods | 6/1/2008 | 1/25/2022, 87 FR 3663
Rule 2.2614 | Determination of VOC Emission Control System Efficiency | 6/1/2008 | 1/25/2022, 87 FR 3663
Rule 2.2615 | Determination of Leak Tightness and Vapor Leaks | 6/1/2008 | 1/25/2022, 87 FR 3663

(4) EPA-Approved Western North Carolina Regulations
Citation | Title/subject | State effective date | EPA approval date | Explanation
Article I. Resolutions, Organization, Administration
Sec. 1-1 | Resolution | 7/1/1970 | 5/2/1991, 56 FR 20140
Sec. 1-2 | Ordinance | 7/1/1970 | 5/2/1991, 56 FR 20140
Sec. 1-3 | Authority | 7/1/1970 | 5/2/1991, 56 FR 20140
Sec. 1-4 | Organization | 7/1/1970 | 5/2/1991, 56 FR 20140
Sec. 1-5 | Administrative Procedures | 7/1/1970 | 5/2/1991, 56 FR 20140
Sec. 1-6 | Appeals to and other Appearances before Board | 7/1/1970 | 5/2/1991, 56 FR 20140
Sec. 1-7 | Opinions not Binding | 7/1/1970 | 5/2/1991, 56 FR 20140
Article II. Definitions
Sec. 1-25 | Definitions | 11/9/1988 | 5/2/1991, 56 FR 20140
Sec. 1-26 | Enforcement of Chapter | 11/9/1988 | 5/2/1991, 56 FR 20140
Sec. 1-27 | General Powers and Duties of Director | 11/9/1988 | 5/2/1991, 56 FR 20140
Sec. 1-28 | Authority of Director to Establish Administrative Procedures | 11/9/1988 | 5/2/1991, 56 FR 20140
Sec. 1-29 | Confidentiality of Records and Information Furnished to the Department | 11/9/1988 | 5/2/1991, 56 FR 20140
Sec. 1-30 | Fees for Inspection Permits and Certificates Required by Chapter | 11/9/1988 | 5/2/1991, 56 FR 20140
Sec. 1-32 | Variances | 11/9/1988 | 5/2/1991, 56 FR 20140
Sec. 1-33 | Penalties for Violation of Chapter | 11/9/1988 | 5/2/1991, 56 FR 20140
Sec. 1-34 | Civil Relief for Violation of Chapter | 11/9/1988 | 5/2/1991, 56 FR 20140
Sec. 1-35 | Chapter Does Not Prohibit Private Actions for Relief | 11/9/1988 | 5/2/1991, 56 FR 20140
Sec. 1-36 | Judicial Review of Administrative Decisions Rendered Under Chapter | 11/9/1988 | 5/2/1991, 56 FR 20140
Article III. Open Burning
Sec. 1-42 | Purpose of Article | 3/13/1985 | 5/2/1991, 56 FR 20140
Sec. 1-43 | Application of Article | 3/13/1985 | 5/2/1991, 56 FR 20140
Sec. 1-44 | General Prohibition | 3/13/1985 | 5/2/1991, 56 FR 20140
Sec. 1-45 | Permissible Burning—Generally | 3/13/1985 | 5/2/1991, 56 FR 20140
Article IV. Visible Emissions
Sec. 1-59 | Purpose of Article | 3/13/1985 | 5/2/1991, 56 FR 20140
Article V. Odorous Emissions
Sec. 1-75 | Control and Prohibition of Odorous Emissions | 3/13/1985 | 5/2/1991, 56 FR 20140
Sec. 1-76 | Control of Conical Incinerators | 3/13/1985 | 5/2/1991, 56 FR 20140
Article VI. Ambient Air Quality Standards
Sec. 1-89 | Purpose | 3/13/1985 | 5/2/1991, 56 FR 20140
Sec. 1-90 | Sampling Locations for Enforcement of Article | 11/9/1988 | 5/2/1991, 56 FR 20140
Sec. 1-91 | Sulfur Oxides | 6/5/1985 | 5/2/1991, 56 FR 20140
Sec. 1-92 | Suspended Particulates | 6/5/1985 | 5/2/1991, 56 FR 20140
Sec. 1-93 | Carbon Monoxide | 6/5/1985 | 5/2/1991, 56 FR 20140
Sec. 1-94 | Ozone | 6/5/1985 | 5/2/1991, 56 FR 20140
Sec. 1-95 | Nitrogen Dioxide | 6/5/1985 | 5/2/1991, 56 FR 20140
Sec. 1-96 | Lead | 6/5/1985 | 5/2/1991, 56 FR 20140
Sec. 1-97 | Particulate Matter | 11/9/1988 | 5/2/1991, 56 FR 20140
Article VII. Classification of Air Contaminant Sources
Sec. 1-108 | Purpose of Article | 8/19/1970 | 5/2/1991, 56 FR 20140
Sec. 1-109 | Application of Article | 8/19/1970 | 5/2/1991, 56 FR 20140
Sec. 1-110 | System Established | 8/19/1970 | 5/2/1991, 56 FR 20140
Article VIII. Registration of Air Contaminant Sources
Sec. 1-121 | Purpose of Article | 1/20/1982 | 5/2/1991, 56 FR 20140
Sec. 1-122 | Application of Article | 1/20/1982 | 5/2/1991, 56 FR 20140
Sec. 1-123 | Operator and Premises Registration | 1/20/1982 | 5/2/1991, 56 FR 20140
Sec. 1-124 | Process Registration—Generally | 1/20/1982 | 5/2/1991, 56 FR 20140
Sec. 1-125 | Director to Establish Dates | 1/20/1982 | 5/2/1991, 56 FR 20140
Sec. 1-126 | Responsibility of Obtaining Forms | 1/20/1982 | 5/2/1991, 56 FR 20140
Article IX. Air Contaminant Emission Control Standards
Sec. 1-135 | Emission Control Standards | 6/5/1985 | 5/2/1991, 56 FR 20140
Sec. 1-136 | Purpose of Article; All Sources to Be Provided with Maximum Feasible Control | 11/9/1988 | 5/2/1991, 56 FR 20140
Sec. 1-137 | Malfunction Regulations | 11/9/1988 | 5/2/1991, 56 FR 20140 | Except for paragraph (g).
Sec. 1-138 | Control of Particulate from Fuel Burning Sources | 11/9/1988 | 5/2/1991, 56 FR 20140
Sec. 1-140 | Particulates from Wood Burning Indirect Heat Exchangers | 11/9/1988 | 5/2/1991, 56 FR 20140
Sec. 1-141 | Control of Particulates from Incinerators | 11/9/1988 | 5/2/1991, 56 FR 20140
Sec. 1-142 | Control of Particulates from Hot Mix Asphalt Plants | 11/9/1988 | 5/2/1991, 56 FR 20140
Sec. 1-143 | Particulates from Chemical Fertilizer Manufacturing Plants | 11/9/1988 | 5/2/1991, 56 FR 20140
Sec. 1-144 | Particulate Matter and Reduced Sulfur Emissions from Pulp and Paper Mills | 11/9/1988 | 2/7/1992, 57 FR 4737 | Except paragraphs (f) and (g).
Sec. 1-145 | Particulate Matter Emissions from Processing Mica or Feldspar | 11/18/1971 | 5/2/1991, 56 FR 20140
Sec. 1-146 | Particulate Matter Emissions from Sand, Gravel and Crushed Stone Operations | 11/18/1971 | 5/2/1991, 56 FR 20140
Sec. 1-147 | Particulate Matter and Sulfur Dioxide Emissions from Lightweight Aggregate Process | 11/18/1971 | 5/2/1991, 56 FR 20140
Sec. 1-148 | Control and Prohibition of Particulate Matter Emissions from Plants Engaged in the Finishing of Wood Products | 11/18/1971 | 5/2/1991, 56 FR 20140
Sec. 1-149 | Control and Prohibition of Particulate Matter Emissions from Portland Cement Plants | 11/18/1971 | 5/2/1991, 56 FR 20140
Sec. 1-150 | Particulates from Miscellaneous Industrial Processes | 11/18/1971 | 5/2/1991, 56 FR 20140
Sec. 1-151 | Sulfur Dioxide Emissions from Fuel-Burning Installations | 11/9/1988 | 5/2/1991, 56 FR 20140
Sec. 1-152 | Emissions from plants Producing Sulfuric Acid | 11/18/1971 | 5/2/1991, 56 FR 20140 | Except for item (2).
Sec. 1-153 | Vapor of Gas Emissions from Stationary Tanks Containing Carbon and Hydrogen | 11/9/1988 | 5/2/1991, 56 FR 20140
Sec. 1-154 | Restriction on Loading of Volatile Organic Compounds | 11/9/1988 | 5/2/1991, 56 FR 20140
Sec. 1-155 | Emissions from Operations Involving Photochemically Reactive Materials | 7/1/1972 | 5/2/1991, 56 FR 20140
Sec. 1-156 | Nitrogen Dioxide Emissions | 7/1/1972 | 5/2/1991, 56 FR 20140
Sec. 1-157 | Control of Particulates from Ferrous Jobbing Foundries | 11/9/1988 | 5/2/1991, 56 FR 20140
Sec. 1-160 | Prevention of Significant Deterioration | 3/13/1985 | 5/2/1991, 56 FR 20140
Sec. 1-162 | Control of Mercury Emissions | 3/13/1985 | 5/2/1991, 56 FR 20140
Sec. 1-165 | Sources Contributing to an Ambient Violation | 6/5/1985 | 5/2/1991, 56 FR 20140
Article XII. Air Pollutants: Monitoring, Reporting
Sec. 1-202 | Purpose and Scope | 3/13/1985 | 5/2/1991, 56 FR 20140
Sec. 1-203 | Definitions | 6/5/1985 | 5/2/1991, 56 FR 20140
Sec. 1-204 | Sources Covered by Implementation Plan Requirements | 6/5/1985 | 5/2/1991, 56 FR 20140
Sec. 1-205 | Wood and Wood-Fossil Fuel Combination Units | 11/9/1988 | 5/2/1991, 56 FR 20140
Sec. 1-206 | Other Coal or Residual Oil Burners | 3/13/1985 | 5/2/1991, 56 FR 20140
Sec. 1-207 | Exemptions to Monitoring and Reporting Requirements | 3/13/1985 | 5/2/1991, 56 FR 20140
Sec. 1-208 | Program Schedule | 3/13/1985 | 5/2/1991, 56 FR 20140
Article XIII. Air Pollution Alerts, Warnings and Emergencies
Sec. 1-222 | Purpose of Article | 11/9/1988 | 5/2/1991, 56 FR 20140
Sec. 1-223 | General Procedure | 11/9/1988 | 5/2/1991, 56 FR 20140
Sec. 1-224 | Episode Criteria | 11/9/1988 | 5/2/1991, 56 FR 20140
Sec. 1-225 | Emission Reduction Plans | 3/13/1985 | 5/2/1991, 56 FR 20140
Sec. 1-226 | Preplanned Abatement Program | 3/13/1985 | 5/2/1991, 56 FR 20140
Sec. 1-227 | Emission Reduction Plan: Alert Level | 11/9/1988 | 5/2/1991, 56 FR 20140
Sec. 1-228 | Emission Reduction Plan: Warning Level | 3/13/1985 | 5/2/1991, 56 FR 20140
Sec. 1-229 | Emergency Reduction Plan: Emergency Level | 3/13/1985 | 5/2/1991, 56 FR 20140
Article XIV. Complex Sources
Sec. 1-230 | Purpose of Article | 6/5/1985 | 5/2/1991, 56 FR 20140
Sec. 1-231 | Definition of “Complex Sources” | 6/5/1985 | 5/2/1991, 56 FR 20140
Sec. 1-232 | Application of Article | 6/5/1985 | 5/2/1991, 56 FR 20140
Sec. 1-233 | Submission of Permits for Review and Approval | 6/5/1985 | 5/2/1991, 56 FR 20140
Sec. 1-234 | Highway Projects | 6/5/1985 | 5/2/1991, 56 FR 20140
Sec. 1-235 | Airport Facility | 6/5/1985 | 5/2/1991, 56 FR 20140
Sec. 1-236 | Facility Under Construction | 6/5/1985 | 5/2/1991, 56 FR 20140
Sec. 1-237 | Applications | 6/5/1985 | 5/2/1991, 56 FR 20140
Sec. 1-238 | No Deviation from Standards | 6/5/1985 | 5/2/1991, 56 FR 20140
Sec. 1-239 | Control of Airborne Particulate Matter in the Ambient Air | 11/9/1988 | 5/2/1991, 56 FR 20140
Chapter 17 Air Quality Permit Procedures
Section .0100 General Provisions
Rule .0101 | Required Air Quality Permits | 9/12/1994 | 7/28/1998, 60 FR 38707
Rule .0102 | Activities Exempted from Permit Requirements | 9/12/1994 | 7/28/1998, 60 FR 38707
Rule .0103 | Definitions | 9/12/1994 | 7/28/1998, 60 FR 38707
Rule .0104 | Where to Obtain and File Permit Applications | 9/12/1994 | 7/28/1998, 60 FR 38707
Rule .0105 | Copies of Referenced Documents | 9/12/1994 | 7/28/1998, 60 FR 38707
Rule .0106 | Incorporation by Reference | 9/12/1994 | 7/28/1998, 60 FR 38707
Rule .0107 | Confidential Information | 9/12/1994 | 7/28/1998, 60 FR 38707
Rule .0109 | Compliance Schedule for Previously Exempted Activities | 9/12/1994 | 7/28/1998, 60 FR 38707
Rule .0110 | Retention of Permit at Permitted Facility | 9/12/1994 | 7/28/1998, 60 FR 38707
Rule .0111 | Applicability Determinations | 9/12/1994 | 7/28/1998, 60 FR 38707
Section .0200 Permit Fees
Rule .0201 | Applicability | 9/12/1994 | 7/28/1998, 60 FR 38707
Rule .0202 | Definitions | 9/12/1994 | 7/28/1998, 60 FR 38707
Rule .0203 | Permit and Application Fees | 9/12/1994 | 7/28/1998, 60 FR 38707
Rule .0204 | Inflation Adjustment | 9/12/1994 | 7/28/1998, 60 FR 38707
Rule .0205 | Other Adjustments | 9/12/1994 | 7/28/1998, 60 FR 38707
Rule .0206 | Payment of Fees | 9/12/1994 | 7/28/1998, 60 FR 38707
Rule .0207 | Annual Emissions Reporting | 9/12/1994 | 7/28/1998, 60 FR 38707
Section .0300 Construction and Operation Permit
Rule .0301 | Applicability | 9/12/1994 | 7/28/1998, 60 FR 38707
Rule .0302 | Facilities Not Likely to Contravene Demonstration | 9/12/1994 | 7/28/1998, 60 FR 38707
Rule .0303 | Definitions | 9/12/1994 | 7/28/1998, 60 FR 38707
Rule .0304 | Applications | 9/12/1994 | 7/28/1998, 60 FR 38707
Rule .0305 | Application Submittal Content | 9/12/1994 | 7/28/1998, 60 FR 38707
Rule .0306 | Permits Requiring Public Participation | 9/12/1994 | 7/28/1998, 60 FR 38707
Rule .0307 | Public Participation Procedures | 9/12/1994 | 7/28/1998, 60 FR 38707
Rule .0308 | Final Action On Permit Applications | 9/12/1994 | 7/28/1998, 60 FR 38707
Rule .0309 | Termination, Modification and Revocation of Permits | 9/12/1994 | 7/28/1998, 60 FR 38707
Rule .0310 | Permitting of Numerous Similar Facilities | 9/12/1994 | 7/28/1998, 60 FR 38707
Rule .0311 | Permitting of Facilities at Multiple Temporary Sites | 9/12/1994 | 7/28/1998, 60 FR 38707
Section .0400 Acid Rain Procedures
Rule .0401 | Applicability | 9/12/1994 | 7/28/1998, 60 FR 38707
Rule .0402 | Definitions | 9/12/1994 | 7/28/1998, 60 FR 38707
Rule .0403 | New Units Exemption | 9/12/1994 | 7/28/1998, 60 FR 38707
Rule .0404 | Retired Units Exemption | 9/12/1994 | 7/28/1998, 60 FR 38707
Rule .0405 | Requirement to Apply | 9/12/1994 | 7/28/1998, 60 FR 38707
Rule .0406 | Requirement for Permit Applications | 9/12/1994 | 7/28/1998, 60 FR 38707
Rule .0407 | Permit Application Shield and Binding Effect of Permit Application | 9/12/1994 | 7/28/1998, 60 FR 38707
Rule .0408 | Compliance Plans | 9/12/1994 | 7/28/1998, 60 FR 38707
Rule .0409 | Phase II Repowering Extensions | 9/12/1994 | 7/28/1998, 60 FR 38707
Rule .0410 | Permit Contents | 9/12/1994 | 7/28/1998, 60 FR 38707
Rule .0411 | Standard Requirements | 9/12/1994 | 7/28/1998, 60 FR 38707
Rule .0412 | Permit Shield | 9/12/1994 | 7/28/1998, 60 FR 38707
Rule .0413 | Permit Revisions Generally | 9/12/1994 | 7/28/1998, 60 FR 38707
Rule .0414 | Permit Modifications | 9/12/1994 | 7/28/1998, 60 FR 38707
Rule .0415 | Fast-Track Modifications | 9/12/1994 | 7/28/1998, 60 FR 38707
Rule .0416 | Administrative Permit Amendment | 9/12/1994 | 7/28/1998, 60 FR 38707
Rule .0417 | Automatic Permit Amendment | 9/12/1994 | 7/28/1998, 60 FR 38707
Rule .0418 | Permit Reopenings | 9/12/1994 | 7/28/1998, 60 FR 38707

* * * * *

(e) EPA-Approved North Carolina Non-Regulatory Provisions.

EPA-Approved North Carolina Non-Regulatory Provisions
Provision | State effective date | EPA approval date | Federal Register citation | Explanation
Capital Area, North Carolina Interagency Transportation Conformity Memorandum of Agreement | 1/1/2002 | 12/27/2002 | 67 FR 78986
Durham-Chapel Hill Interagency Transportation Conformity Memorandum of Agreement | 1/1/2002 | 12/27/2002 | 67 FR 78986
Winston-Salem Interagency Transportation Conformity Memorandum of Agreement | 1/1/2002 | 12/27/2002 | 67 FR 78986
High Point Interagency Transportation Conformity Memorandum of Agreement | 1/1/2002 | 12/27/2002 | 67 FR 78986
Greensboro Interagency Transportation Conformity Memorandum of Agreement | 1/1/2002 | 12/27/2002 | 67 FR 78986
Gaston, North Carolina Interagency Transportation Conformity Memorandum of Agreement | 1/1/2002 | 12/27/2002 | 67 FR 78986
Mecklenburg-Union Interagency Transportation Conformity Memorandum of Agreement | 8/7/2003 | 9/15/2003 | 68 FR 53887
10 Year Maintenance Plan Update for the Raleigh/Durham Area | 6/4/2004 | 9/20/2004 | 69 FR 56163
10 Year Maintenance Plan Update for the Greensboro/Winston-Salem/High Point Area | 6/4/2004 | 9/20/2004 | 69 FR 56163
Attainment Demonstration of the Mountain, Unifour, Triad and Fayetteville Early Action Compact Areas | 12/21/2004 | 9/21/2005 | 70 FR 48874
Charlotte, Raleigh-Durham, and Winston-Salem Carbon Monoxide Second 10-Year Maintenance Plan | 3/18/2005 | 3/24/2006 | 71 FR 14817
8-Hour Ozone Maintenance plan for the Rocky Mount, North Carolina area (Edgecombe and Nash Counties) | 6/19/2006 | 11/6/2006 | 71 FR 64891
8-Hour Ozone Maintenance plan for the Raleigh-Durham-Chapel Hill, North Carolina area (Durham, Franklin, Granville, Johnston, Orange, Person and Wake Counties in their entireties, and Baldwin, Center, New Hope and Williams Townships in Chatham County) | 6/7/2007 | 12/26/2007 | 72 FR 72948
1-Hour Ozone Maintenance plan revision for the Greensboro/Winston-Salem/High Point area (Davidson, Forsyth, and Guilford counties and a portion of Davie County) | 2/4/2008 | 4/8/2008 | 73 FR 18963
8-Hour Ozone Maintenance Plan for the Great Smoky Mountains National Park Area | 7/24/2009 | 12/7/2009 | 74 FR 63995
1997 Annual PM2.5 Maintenance Plan for the Hickory, North Carolina Area—(Catawba County) | 12/18/2009 | 11/18/2011 | 76 FR 71452
1997 Annual PM2.5 Maintenance Plan for the Hickory, North Carolina Area—MOVES Update | 12/22/2010 | 11/18/2011 | 76 FR 71452
1997 Annual PM2.5 Maintenance Plan for the Greensboro, North Carolina Area (Davidson and Guilford Counties) | 12/18/2009 | 11/18/2011 | 76 FR 71455
1997 Annual PM2.5 Maintenance Plan for the Greensboro, North Carolina Area—MOVES Update | 12/22/2010 | 11/18/2011 | 76 FR 71455
North Carolina 110(a)(1) and (2) Infrastructure Requirements for the 1997 8-Hour Ozone National Ambient Air Quality Standards | 12/12/2007 | 2/6/2012 | 77 FR 5703
1997 8-Hour Ozone 110(a)(1) Maintenance Plan for the Triad Area | 4/13/2011 | 3/26/2012 | 76 FR 3611
Supplement to 110(a)(1) Maintenance Plan for the Triad Area | 5/18/2011 | 3/26/2012 | 76 FR 3611
North Carolina portion of bi-state Charlotte; 1997 8-Hour Ozone 2002 Base Year Emissions Inventory | 11/12/2009 | 5/4/2012 | 77 FR 26441
Regional Haze Plan | 11/17/2007 | 6/27/2012 | 77 FR 38185
110(a)(1) and (2) Infrastructure Requirements for 1997 Fine Particulate Matter National Ambient Air Quality Standards | 4/1/2008 | 10/16/2012 | 77 FR 63238 | With the exception of section 110(a)(2)(D)(i). With respect to sections 110(a)(2)(C) related to PSD requirements, 110(a)(2)(E)(ii) and 110(a)(2)(J) related to PSD requirements, EPA conditionally approved these requirements.
110(a)(1) and (2) Infrastructure Requirements for 2006 Fine Particulate Matter National Ambient Air Quality Standards | 9/21/2009 | 10/16/2012 | 77 FR 63238 | With the exception of section 110(a)(2)(D)(i). With respect to sections 110(a)(2)(C) related to PSD requirements, 110(a)(2)(E)(ii) and 110(a)(2)(J) related to PSD requirements, EPA conditionally approved these requirements.
MVEB Update for the Redesignation and Maintenance Plan for the Rocky Mount, NC Area for the 1997 8-hour Ozone Standard | 2/7/2011 | 11/26/2012 | 77 FR 59335
1997 8-hour ozone reasonable further progress plan for North Carolina portion of the bi-state Charlotte Area | 11/30/2009 | 10/12/2012 | 77 FR 62166
8-Hour Carbon Monoxide Limited Maintenance Plan for Charlotte, Raleigh/Durham and Winston-Salem Maintenance Area | 8/2/2012 | 6/20/2013 | 78 FR 37122
1997 8-hour ozone Maintenance Plan for the North Carolina portion of the bi-state Charlotte Area | 11/2/2011, and supplemented on 3/28/2013 | 12/2/2013 | 78 FR 72039
North Carolina Transportation Conformity Air Quality Implementation Plan | 7/12/2013 | 12/26/2013 | 78 FR 78272
Supplement Maintenance Plan for the Raleigh-Durham-Chapel Hill, NC 1997 8-hour Ozone Maintenance Area and RVP Standard | 3/27/2013 | 1/2/2014 | 79 FR 50
Supplement Maintenance Plan for the Greensboro/Winston-Salem/High Point Area, NC 1997 8-hour Ozone Maintenance Area and RVP Standard | 4/2/2013 | 1/24/2014 | 79 FR 4085
110(a)(1) and (2) Infrastructure Requirements for 1997 Fine Particulate Matter National Ambient Air Quality Standards | 4/1/2008 | 5/7/2014 | 79 FR 26149 | Addressing prong 4 of section 110(a)(2)(D)(i) only.
110(a)(1) and (2) Infrastructure Requirements for 2006 Fine Particulate Matter National Ambient Air Quality Standards | 9/21/2009 | 5/7/2014 | 79 FR 26149 | Addressing prong 4 of section 110(a)(2)(D)(i) only.
Non-Interference Demonstration for the North Carolina Inspection and Maintenance Program | 10/11/2013 | 2/5/2015 | 80 FR 6457
110(a)(1) and (2) Infrastructure Requirements for the 2008 Lead National Ambient Air Quality Standards | 6/15/2012 | 3/9/2015 | 80 FR 12344 | With the exception of PSD permitting requirements for major sources of sections 110(a)(2)(C), prong 3 of D(i), and (J) and the state board requirements of 110(E)(ii).
North Carolina portion of bi-state Charlotte Area; 2008 8-Hour Ozone Base Year Emissions Inventory | 7/7/2014 | 4/21/2015 | 80 FR 22211
North Carolina portion of bi-state Charlotte Area; 2008 8-Hour Ozone Annual Emissions Reporting (Emissions Statements) | 7/7/2014 | 4/21/2015 | 80 FR 22211
Supplement Maintenance Plan for the Charlotte Area, NC 2008 8-hour Ozone Maintenance Area and RVP Standard | 4/16/2015 | 7/28/2015 | 80 FR 44868 | Provides the non-interference demonstration for revising the Federal Low-Reid Vapor Pressure requirement for the Charlotte Area, NC.
2008 8-hour ozone Maintenance Plan for the North Carolina portion of the bi-state Charlotte Area | 4/16/2015 | 7/28/2015 | 80 FR 44873
110(a)(1) and (2) Infrastructure Requirements for the 1997 8-hour Ozone NAAQS | 7/27/2015 | 11/3/2015 | 80 FR 67646 | Approving 110(a)(2)(E)(ii) as it relates to the Secretary of the DENR and his/her delegatee that approve permit or enforcement orders and appeal matters decided by ALJs.
110(a)(1) and (2) Infrastructure Requirements for the 1997 Annual PM2.5 NAAQS | 7/27/2015 | 11/3/2015 | 80 FR 67646 | Approving 110(a)(2)(E)(ii) as it relates to the Secretary of the DENR and his/her delegatee that approve permit or enforcement orders and appeal matters decided by ALJs.
110(a)(1) and (2) Infrastructure Requirements for the 2006 24-hour PM2.5 NAAQS | 7/27/2015 | 11/3/2015 | 80 FR 67646 | Approving 110(a)(2)(E)(ii) as it relates to the Secretary of the DENR and his/her delegatee that approve permit or enforcement orders and appealed matters decided by ALJs.
110(a)(1) and (2) Infrastructure Requirements for the 2008 Lead NAAQS | 7/27/2015 | 11/3/2015 | 80 FR 67646 | Approving 110(a)(2)(E)(ii) as it relates to the Secretary of the DENR and his/her delegatee that approve permit or enforcement orders and appeal matters decided by ALJs.
110(a)(1) and (2) Infrastructure Requirements for the 2008 8-hour Ozone NAAQS | 7/27/2015 | 11/3/2015 | 80 FR 67646 | Approving 110(a)(2)(E)(ii) as it relates to the Secretary of the DENR and his/her delegatee that approve permit or enforcement orders and appeal matters decided by ALJs.
110(a)(1) and (2) Infrastructure Requirements for the 2010 NO2 NAAQS | 7/27/2015 | 11/3/2015 | 80 FR 67646 | Approving 110(a)(2)(E)(ii) as it relates to the Secretary of the DENR and his/her delegatee that approve permit or enforcement orders and appeal matters decided by ALJs.
110(a)(1) and (2) Infrastructure Requirements for the 2010 SO2 NAAQS | 7/27/2015 | 11/3/2015 | 80 FR 67646 | Approving 110(a)(2)(E)(ii) as it relates to the Secretary of the DENR and his/her delegatee that approve permit or enforcement orders and appeal matters decided by ALJs.
Chapter 7A section 754 of the North Carolina General Statues | 7/27/2015 | 11/3/2015 | 80 FR 67646 | Specifically, the following paragraph of 7A-754 stating “The Chief Administrative Law Judge and the administrative law judges shall comply with the Model Code of Judicial Conduct for State Administrative Law Judges, as adopted by the National Conference of Administrative Law Judges, Judicial Division, American Bar Association, (revised August 1998), as amended from time to time, except that the provisions of this section shall control as to the private practice of law in lieu of Canon 4G, and G.S. 126-13 shall control as to political activity in lieu of Canon 5.” is approved into the SIP.
110(a)(1) and (2) Infrastructure Requirements for the 2008 8-Hour Ozone National Ambient Air Quality Standards | 11/2/2012 | 11/5/2015 | 80 FR 68457 | With the exception of sections: 110(a)(2)(C) and (J) concerning PSD permitting requirements; 110(a)(2)(D)(i)(I) and (II) (prongs 1 through 4) concerning interstate transport requirements; 110(a)(2)(E)(ii) concerning state board requirements.
110(a)(1) and (2) Infrastructure Requirements for the 2010 1-hour SO2 NAAQS | 3/18/2014 | 4/26/2016 | 81 FR 24497 | With the exception of the PSD permitting requirements for major sources of sections 110(a)(2)(C) and (J), the interstate transport requirements of section 110(a)(2)(D)(i)(I) and (II) (prongs 1, 2, 3, and 4), and the state board requirements of section 110(E)(ii).
BART Alternative Plan | 10/31/2014 | 5/24/2016 | 81 FR 32654 | This plan modifies the Regional Haze Plan approved with a state effective date of 11/17/2007 (see above) and converts the June 27, 2012, limited approval to a full approval.
110(a)(1) and (2) Infrastructure Requirements for the 2008 8-Hour Ozone NAAQS | 11/2/2012 | 6/3/2016 | 81 FR 35636 | Addressing prong 4 of section 110(a)(2)(D)(i) only.
110(a)(1) and (2) Infrastructure Requirements for the 2010 1-hour NO2 NAAQS | 8/23/2013 | 6/3/2016 | 81 FR 35636 | Addressing prong 4 of section 110(a)(2)(D)(i) only.
110(a)(1) and (2) Infrastructure Requirements for the 2010 1-hour SO2 NAAQS | 3/18/2014 | 6/3/2016 | 81 FR 35636 | Addressing prong 4 of section 110(a)(2)(D)(i) only.
110(a)(1) and (2) Infrastructure Requirements for the 2012 Annual PM2.5 NAAQS | 12/4/2015 | 6/3/2016 | 81 FR 35636 | Addressing prong 4 of section 110(a)(2)(D)(i) only.
May 2013 Regional Haze Progress Report | 5/31/2013 | 8/25/2016 | 81 FR 58401 | Includes updated reasonable progress goals for North Carolina's Class I areas.
110(a)(1) and (2) Infrastructure Requirements for 1997 Fine Particulate Matter NAAQS | 4/1/2008 | 9/14/2016 | 81 FR 63111 | Partially approve the PSD elements of sections 110(a)(2)(C), 110(a)(2)(D)(i)(II) (prong 3) and 110(a)(2)(J) and disapprove with respect to the PM2.5 increment requirements of 2010 PSD PM2.5 Rule.
110(a)(1) and (2) Infrastructure Requirements for 2006 Fine Particulate Matter NAAQS | 9/21/2009 | 9/14/2016 | 81 FR 63111 | Partially approve the PSD elements of sections 110(a)(2)(C), 110(a)(2)(D)(i)(II) (prong 3) and 110(a)(2)(J) and disapprove with respect to the PM2.5 increment requirements of 2010 PSD PM2.5 Rule.
110(a)(1) and (2) Infrastructure Requirements for the 2008 Lead NAAQS | 6/15/2012 | 9/14/2016 | 81 FR 63111 | Partially approve the PSD elements of sections 110(a)(2)(C), 110(a)(2)(D)(i)(II) (prong 3) and 110(a)(2)(J) and disapprove with respect to the PM2.5 increment requirements of 2010 PSD PM2.5 Rule.
110(a)(1) and (2) Infrastructure Requirements for the 2008 8-Hour Ozone NAAQS | 11/2/2012 | 9/14/2016 | 81 FR 63111 | Partially approve the PSD elements of sections 110(a)(2)(C), 110(a)(2)(D)(i)(II) (prong 3) and 110(a)(2)(J) and disapprove with respect to the PM2.5 increment requirements of 2010 PSD PM2.5 Rule.
110(a)(1) and (2) Infrastructure Requirements for the 2010 1-hour NO2 NAAQS | 8/23/2013 | 9/14/2016 | 81 FR 63111 | Partially approve the PSD elements of sections 110(a)(2)(C), 110(a)(2)(D)(i)(II) (prong 3) and 110(a)(2)(J) and disapprove with respect to the PM2.5 increment requirements of 2010 PSD PM2.5 Rule.
110(a)(1) and (2) Infrastructure Requirements for the 2010 1-hour SO2 NAAQS | 3/18/2014 | 9/14/2016 | 81 FR 63111 | Partially approve the PSD elements of sections 110(a)(2)(C), 110(a)(2)(D)(i)(II) (prong 3) and 110(a)(2)(J) and disapprove with respect to the PM2.5 increment requirements of 2010 PSD PM2.5 Rule.
110(a)(1) and (2) Infrastructure Requirements for the 2012 Annual PM2.5 NAAQS | 12/4/2015 | 9/14/2016 | 81 FR 63111 | Partially approve the PSD elements of sections 110(a)(2)(C), 110(a)(2)(D)(i)(II) (prong 3) and 110(a)(2)(J) and disapprove with respect to the PM2.5 increment requirements of 2010 PSD PM2.5 Rule.
Good Neighbor Provisions (Section 110(a)(2)(D)(i)(I)) for the 2010 1-hour NO2 NAAQS | 3/24/2016 | 9/22/2016 | 81 FR 65288
110(a)(1) and (2) Infrastructure Requirements for the 2010 1-hour NO2 NAAQS | 8/23/2013 | 10/14/2016 | 81 FR 70969 | With the exception of sections: 110(a)(2)(E)(ii) concerning state boards; 110(a)(2)(C) and (J) concerning PSD permitting requirements; and 110(a)(2)(D)(i)(I) and (II) (prongs 1 through 4) concerning interstate transport requirements.
110(a)(1) and (2) Infrastructure Requirements for the 2012 Annual PM2.5 NAAQS | 12/4/2015 | 4/7/2017 | 82 FR 16924 | With the exception of section 110(a)(2)(D)(i)(I) and (II) (prongs 1 through 4) and the PSD requirements of section 110(a)(2)(C) and (J).
110(a)(1) and (2) Infrastructure Requirements for the 2008 8-Hour Ozone NAAQS | 12/9/2015 | 10/4/2017 | 82 FR 46134 | Addressing prongs 1 and 2 of section 110(a)(2)(D)(i) only.
North Carolina Removal of 26 Counties from Inspection and Maintenance Program and 110(l) Non-Interference Demonstration | 11/17/2017 | 9/25/2018 | 83 FR 48383
110(a)(1) and (2) Infrastructure Requirements for 1997 Fine Particulate Matter NAAQS | 4/1/2008 | 9/11/2018 | 83 FR 45827 | Approved the PSD elements of sections 110(a)(2)(C), 110(a)(2)(D)(i)(II) (prong 3) and 110(a)(2)(J).
110(a)(1) and (2) Infrastructure Requirements for 2006 Fine Particulate Matter NAAQS | 9/21/2009 | 9/11/2018 | 83 FR 45827 | Approved the PSD elements of sections 110(a)(2)(C), 110(a)(2)(D)(i)(II) (prong 3) and 110(a)(2)(J).
110(a)(1) and (2) Infrastructure Requirements for the 2008 Lead NAAQS | 6/15/2012 | 9/11/2018 | 83 FR 45827 | Approved the PSD elements of sections 110(a)(2)(C), 110(a)(2)(D)(i)(II) (prong 3) and 110(a)(2)(J).
110(a)(1) and (2) Infrastructure Requirements for the 2008 8-Hour Ozone NAAQS | 11/2/2012 | 9/11/2018 | 83 FR 45827 | Approved the PSD elements of sections 110(a)(2)(C), 110(a)(2)(D)(i)(II) (prong 3) and 110(a)(2)(J).
110(a)(1) and (2) Infrastructure Requirements for the 2010 1-hour NO2 NAAQS | 8/23/2013 | 9/11/2018 | 83 FR 45827 | Approved the PSD elements of sections 110(a)(2)(C), 110(a)(2)(D)(i)(II) (prong 3) and 110(a)(2)(J).
110(a)(1) and (2) Infrastructure Requirements for the 2010 1-hour SO2 NAAQS | 3/18/2014 | 9/11/2018 | 83 FR 45827 | Approved the PSD elements of sections 110(a)(2)(C), 110(a)(2)(D)(i)(II) (prong 3) and 110(a)(2)(J).
110(a)(1) and (2) Infrastructure Requirements for the 2012 Annual PM2.5 NAAQS | 12/4/2015 | 9/11/2018 | 83 FR 45827 | Approved the PSD elements of sections 110(a)(2)(C), 110(a)(2)(D)(i)(II) (prong 3) and 110(a)(2)(J).
110(a)(1) and (2) Infrastructure Requirements for the 2012 Annual PM2.5 NAAQS | 12/4/2015 | 9/25/2018 | 83 FR 48387 | Addressing Prongs 1 and 2 of section 110(a)(2)(D)(i)(I) only.
2008 8-hour ozone Maintenance Plan for the North Carolina portion of the bi-state Charlotte Area | 7/25/2018 | 9/11/2019 | 84 FR 47889
110(a)(1) and (2) Infrastructure Requirements for the 2015 8-Hour Ozone NAAQS | 9/27/2018 | 3/11/2020 | 85 FR 14147 | With the exception of 110(a)(2)(D)(i)(I) (prongs 1 and 2) and PSD provisions related to major sources under sections 110(a)(2)(C), 110(a)(2)(D)(i)(II) (prong 3), and 110(a)(2)(J).
MVEB Revision to the 2008 8-hour ozone Maintenance Plan for the North Carolina portion of the bi-state Charlotte Area | 7/16/2020 | 8/25/2021 | 86 FR 47387
110(a)(1) and (2) Infrastructure Requirements for the 2015 8-Hour Ozone NAAQS | 9/27/2018 | 12/2/2021 | 86 FR 68413 | Addressing Prongs 1 and 2 of section 110(a)(2)(D)(i)(I) only.
1997 8-hour Ozone NAAQS 2nd Maintenance Plans (Limited Maintenance Plans) for the Great Smoky Mountains National Park, Raleigh-Durham-Chapel Hill, and Rocky Mount, North Carolina Areas | 9/22/2020 | 5/9/2022 | 87 FR 27521
Removal of Lee, Onslow, and Rockingham Counties from North Carolina's Inspection and Maintenance Program and 110(l) Non-Interference Demonstration | 12/14/2020 | 8/11/2022 | 87 FR 49524
110(a)(1) and (2) Infrastructure Requirements for the 2015 8-Hour Ozone NAAQS | 4/13/2021 | 1/5/2023 | 88 FR 773 | Addressing the PSD provisions of sections 110(a)(2)(C), (D)(i)(II) (Prong 3), and (J) only.
1997 8-hour Ozone 2nd Maintenance Plan (Limited Maintenance Plan) for the North Carolina portion of the bi-state Charlotte Area | 12/9/2021 | 1/13/2023 | 88 FR 2245
Burlington-Graham Interagency Transportation Conformity Memorandum of Agreement | 1/30/2023 | 3/29/2023 | 88 FR 18423
Cabarrus-Rowan Interagency Transportation Conformity Memorandum of Agreement | 1/20/2023 | 3/29/2023 | 88 FR 18423
Charlotte Regional Interagency Transportation Conformity Memorandum of Agreement | 1/30/2023 | 3/29/2023 | 88 FR 18423
Durham-Chapel Hill-Carrboro Interagency Transportation Conformity Memorandum of Agreement | 1/30/2023 | 3/29/2023 | 88 FR 18423
Gaston-Cleveland-Lincoln Interagency Transportation Conformity Memorandum of Agreement | 1/30/2023 | 3/29/2023 | 88 FR 18423
Greater Hickory Interagency Transportation Conformity Memorandum of Agreement | 1/30/2023 | 3/29/2023 | 88 FR 18423
Greensboro Urban Area Interagency Transportation Conformity Memorandum of Agreement | 1/27/2023 | 3/29/2023 | 88 FR 18423
High Point Urban Area Interagency Transportation Conformity Memorandum of Agreement | 1/27/2023 | 3/29/2023 | 88 FR 18423
North Carolina Capital Area Interagency Transportation Conformity Memorandum of Agreement | 1/27/2023 | 3/29/2023 | 88 FR 18423
Rocky Mount Urban Area Interagency Transportation Conformity Memorandum of Agreement | 1/27/2023 | 3/29/2023 | 88 FR 18423
Winston-Salem-Forsyth Urban Area Interagency Transportation Conformity Memorandum of Agreement | 1/27/2023 | 3/29/2023 | 88 FR 18423
Rural (counties not covered by MPO, administered by North Carolina DOT) Interagency Transportation Conformity Memorandum of Agreement | 1/27/2023 | 3/29/2023 | 88 FR 18423
Great Smoky Mountains National Park (administered by NPS) Interagency Transportation Conformity Memorandum of Agreement | 1/30/2023 | 3/29/2023 | 88 FR 18423

[FR Doc. 2023-15965 Filed 8-1-23; 8:45 am]

BILLING CODE 6560-50-P